SMALL BUSINESS ADMINISTRATION

13 CFR Part 121

RIN 3245-AI12

Small Business Size Standards: Monetary-Based Industry Size Standards

AGENCY: U.S. Small Business Administration.

ACTION: Proposed rule.

SUMMARY: The U.S. Small Business Administration (SBA or the Agency) proposes to increase its monetary based small business size definitions (commonly referred to as “size standards”) for 263 industries (259 receipts based and four assets based). SBA proposes to retain receipts based size standards for 237 industries and 12 subindustries (“exceptions”) and remove one exception. SBA's proposal relied on its recently revised “Size Standards Methodology” (Revised Methodology). SBA seeks comments on its proposed changes to size standards and data sources it evaluated to develop the proposed size standards. SBA also invites comments on its proposed policy of not lowering any size standards, except for excluding dominant firms from qualifying as small. In accordance with 5 U.S.C. 553(b)(4), a summary of this rule may be found at www.regulations.gov.

DATES: SBA must receive comments on this proposed rule on or before October 21, 2025.

ADDRESSES: Identify your comments by RIN 3245-AI12 or Docket No. SBA-2025-0102 and submit them by one of the following methods: (1) Federal eRulemaking Portal: www.regulations.gov. Follow the instructions for submitting comments; or (2) Mail/Hand Delivery/Courier: Khem R. Sharma, Ph.D., Chief, Size Standards Division, 409 Third Street SW, Mail Code 6530, Washington, DC 20416.

SBA will post all comments on this proposed rule on www.regulations.gov. If you wish to submit confidential business information (CBI) as defined in the User Notice at www.regulations.gov, you must submit such information to U.S. Small Business Administration, Khem R. Sharma, Ph.D., Chief, Size Standards Division, 409 Third Street SW, Mail Code 6530, Washington, DC 20416, or send an email to sizestandards@sba.gov. Highlight the information that you consider to be CBI and explain why you believe SBA should hold this information as confidential. SBA will review your information and determine whether it will make the information public.

FOR FURTHER INFORMATION CONTACT: Jorge Laboy-Bruno, Ph.D., Economist, Size Standards Division, (202) 205-6618 or sizestandards@sba.gov.

SUPPLEMENTARY INFORMATION: To determine eligibility for Federal small business assistance, SBA establishes small business size definitions (usually referred to as “size standards”) for private sector industries in the United States. SBA uses two primary measures of business size for size standards purposes: average annual receipts and average number of employees. SBA uses financial assets for certain financial industries and refining capacity, in addition to employees, for the petroleum refining industry to measure business size. In addition, SBA's Small Business Investment Company (SBIC), Certified Development Company (CDC/504), and 7(a) Loan Programs use either the industry based size standards or the tangible net worth and net income based alternative size standard to determine eligibility for those programs.

In September 2010, Congress passed the Small Business Jobs Act (Pub. L. 111-240, 124 Stat. 2504 (September 27, 2010)) (Jobs Act) requiring SBA to review all size standards every five years and make necessary adjustments to reflect current industry and market conditions. Section 1831 of the National Defense Authorization Act for Fiscal Year 2017 (Pub. L. 114-328; December 23, 2016) (NDAA 2017) directed SBA to establish size standards for all agricultural enterprises in the same manner as for other industries and to include them in the five-year rolling review procedures established under section 1344(a) of the Jobs Act.

In accordance with the Jobs Act, SBA completed the first five-year review of all size standards (except size standards for agricultural enterprises) in 2016 ¹ and the second five-year review of size standards (including size standards for agricultural enterprises in accordance with NDAA 2017) in 2023,² and made appropriate adjustments to size standards for a number of industries to reflect current industry and Federal market conditions. This rule focusing on monetary based size standards is one of two proposed rules as part of the third five-year review of size standards under the Jobs Act. The other proposed rule will focus on employee based size standards and be published in the near future.

¹ See “A REPORT ON THE FIRST FIVE-YEAR COMPREHENSIVE REVIEW OF SMALL BUSINESS SIZE STANDARDS UNDER THE SMALL BUSINESS JOBS ACT OF 2010” available at https://www.sba.gov/sites/default/files/2023-09/Report%20on%20the%20First%205-Year%20Comprehensive%20Size%20Standards%20Review-508F.pdf.

² See “A REPORT ON THE SECOND FIVE-YEAR COMPREHENSIVE REVIEW OF SMALL BUSINESS SIZE STANDARDS UNDER THE SMALL BUSINESS JOBS ACT OF 2010”, available at https://www.sba.gov/sites/default/files/2023-07/SBA%27s%20Report%20on%20the%20Second%205%20Year%20Review%20of%20Size%20Standards_Final.pdf.

The number of monetary based size standards reviewed and revised by NAICS sector during the first five-year comprehensive review of size standards under the Jobs Act were discussed in the receipts based size standards proposed rules SBA issued as part of the second five-year comprehensive review of size standards.³ During the second five-year review of size standards under the Jobs Act, SBA reviewed a total of 534 monetary based size standards and increased 264.

³ See Small Business Size Standards: Agriculture, Forestry, Fishing and Hunting, Mining, Quarrying, and Oil and Gas Extraction, Utilities, Construction (85 FR 62239, October 2, 2020), Small Business Size Standards: Transportation and Warehousing, Information, Finance and Insurance, Real Estate and Rental and Leasing (85 FR 62372, October 2, 2020), Small Business Size Standards: Professional, Scientific and Technical Services, Management of Companies and Enterprises, Administrative and Support and Waste Management and Remediation Services (85 FR 72584, November 13, 2020), Small Business Size Standards: Education Services, Health Care and Social Assistance, Arts, Entertainment and Recreation, Accommodation and Food Services, Other Services (85 FR 76390, November 27, 2020), and Small Business Size Standards: Wholesale Trade and Retail Trade (86 FR 28012, May 25, 2021).

The analysis of available data at that time suggested that a total of 237 size standards might be decreased, but in response to ongoing economic impacts as a result of the COVID-19 pandemic, SBA decided to retain those size standards at the current levels.⁴ Table 1, Summary of Monetary Based Size Standards Reviewed in Second Five-Year Review (NAICS 2017), provides a summary of these revisions by NAICS sector.

⁴ See Small Business Size Standards: Agriculture, Forestry, Fishing and Hunting, Mining, Quarrying, and Oil and Gas Extraction, Utilities, Construction (87 FR 18607, March 31, 2022), Small Business Size Standards: Transportation and Warehousing, Information, Finance and Insurance, Real Estate and Rental and Leasing (87 FR 18627, March 31, 2022), Small Business Size Standards: Professional, Scientific and Technical Services, Management of Companies and Enterprises, Administrative and Support and Waste Management and Remediation Services (87 FR 18665, March 31, 2022), Small Business Size Standards: Education Services, Health Care and Social Assistance, Arts, Entertainment and Recreation, Accommodation and Food Services, Other Services (87 FR 18646, March 31, 2022), and Small Business Size Standards: Wholesale Trade and Retail Trade (87 FR 35869, June 14, 2022).

Currently, there are 102 different size standards levels, covering 978 NAICS industries and 18 subindustries (commonly known as “exceptions” in SBA's table of size standards). Seventy-three of these size levels are based on average annual receipts covering 496 industries and 13 subindustries (“exceptions”), 27 are based on average number of employees covering 478 industries and five subindustries (“exceptions”), one is based on refining capacity covering one industry, and one is based on average assets covering four industries.

BILLING CODE 8026-09-P

BILLING CODE 8026-09-C

SBA also adjusts its monetary based size standards for inflation at least once every five years. An interim final rule on SBA's latest inflation adjustment to size standards, effective December 19, 2022, was published in the Federal Register on November 17, 2022 (87 FR 69118), which SBA finalized on July 19, 2023, adopting the November 2022 interim rule (88 FR 46048). SBA also updates its size standards, every five years, to adopt the Office of Management and Budget's (OMB) quinquennial NAICS revisions to its table of small business size standards. Effective October 1, 2022, SBA adopted the OMB's 2022 NAICS revisions to its size standards (87 FR 59240, September 29, 2022).

This proposed rule is one of the two proposed rules that will review size standards of industries grouped by the type of size standards measures, i.e., monetary based size standards and employee based size standards. Rather than review all size standards in one rule, SBA is reviewing size standards by grouping industries that use the same size measure (i.e., employees or monetary measures). Once SBA completes its review of size standards for a group of industries sharing the same measure of size standards, it issues for public comments a proposed rule to revise size standards for those industries based on the latest available data and other factors deemed relevant by the SBA's Administrator.

Below is a discussion of SBA's recently revised “Size Standards Methodology” (Revised Methodology), issued on September 12, 2024, and available at www.sba.gov/size, for establishing, reviewing, or modifying receipts based size standards that SBA has applied to this proposed rule. SBA examines the structural characteristics of an industry as a basis to assess industry differences and the overall degree of competitiveness of an industry and of firms within the industry. Industry structure is typically examined by analyzing four primary factors—average firm size, degree of competition within an industry, start-up costs and entry barriers, and distribution of firms by size. To assess the ability of small businesses to compete for Federal contracting opportunities under the current size standards, as the fifth primary factor, SBA also examines, for each industry averaging $20 million or more in average annual Federal contract dollars, the Federal contracting factor in terms of two disparity ratios. The first disparity ratio measures the small business share of total contracts relative to the small business share of the total population of firms that are willing, ready, and able to bid on and perform Federal contracts. The second disparity ratio represents the small business share of Federal contract dollars relative to the small business share in total industry's receipts. When necessary, SBA also considers other secondary factors that are relevant to the industries and the interests of small businesses, including impacts of size standards changes on small businesses.

Size Standards Methodology

SBA has recently revised its Methodology for establishing, reviewing, or modifying size standards when necessary. See the notification in the September 12, 2024, edition of the Federal Register (89 FR 74109). The Revised Methodology is available on SBA's size standards web page at www.sba.gov/size. Prior to finalizing the Revised Methodology, SBA issued a notification in the December 11, 2023, edition of the Federal Register (88 FR 85852) to solicit comments from the public and notify stakeholders of the proposed changes to the Methodology. SBA considered all public comments in finalizing the Revised Methodology. For a summary of comments and SBA's responses, refer to the SBA's September 12, 2024, Federal Register notification.

The Revised Methodology represents two major changes from the previous methodology (2019 Methodology), which was issued on April 11, 2019 (84 FR 14587). The first change is to replace the 2019 Methodology to account for the Federal contracting factor with the disparity ratio approach. Under the 2019 Methodology, SBA defined the Federal contracting factor in terms of the difference between the small business share of total contract obligations and the small business share of industry' receipts. If the small business share of an industry total receipts exceeded the small business share of total contract obligations by ten percentage points or more, all else being the same, SBA increased that industry's current size standard by certain amount depending on the amount of that difference. If that difference was less than ten percentage points, SBA considered that the current size standard was sufficient with respect to the Federal contracting factor.⁵

⁵ For a more detailed explanation of this approach, please see SBA's 2019 Methodology, available at https://www.sba.gov/document/support-2019-size-standards-methodology-white-paper.

Under the disparity ratio approach, SBA computes a disparity ratio as a ratio (instead of the difference) between the small business share of contract obligations and the small business share of industry receipts. SBA also computes a second disparity ratio as a ratio between small business share of the number of contracts and the share of small firms in the total population of firms that are willing, ready, and able to bid on and perform Federal contracts. If an industry's disparity ratio is less than 0.8, SBA would assume that small businesses are either materially underrepresented (i.e., the disparity ratio is 0.5 or greater and less than 0.8) or substantially underrepresented (i.e., the disparity ratio is less than 0.5) in the Federal market under that industry's current size standard and would increase the current size standard as per Table 3 (below). If an industry's disparity ratio is 0.8 or higher, small businesses are considered overrepresented (i.e., the disparity ratio is 0.8 or higher and less than 1.2) or substantially overrepresented (i.e., the disparity ratio is 1.2 or higher) in the Federal market in that industry under the current size standard, and that industry's size standard is maintained at the current level.

The second change is to replace the 20th percentile and 80th percentile values of industry factors for evaluating size standards at subindustry levels (“exceptions”) from those calculated based on the Economic Census data in the 2019 Methodology with those calculated using the Federal Procurement Data System/System for Award Management (FPDS/SAM) data under the revised Methodology. This will ensure consistency between the 20th percentile and 80th percentile values of industry factors and industry factors for individual exceptions.

SBA does not apply all aspects of its Methodology to all proposed rules because not all features are relevant for every industry covered by each proposed rule. For example, since all industries covered by this proposed rule have receipts based size standards, the Methodology described in this proposed rule applies only to establishing, reviewing, or modifying receipts based size standards. SBA's entire Methodology is available on its website at www.sba.gov/size and on www.regulations.gov.

Industry Analysis

Congress granted SBA's Administrator discretion to establish detailed small business size standards. 15 U.S.C. 632(a)(2). Specifically, section 3(a)(3) of the Small Business Act (15 U.S.C. 632(a)(3)) requires that “. . . the [SBA] Administrator shall ensure that the size standard varies from industry to industry to the extent necessary to reflect the differing characteristics of the various industries and consider other factors deemed to be relevant by the Administrator.” Accordingly, the economic structure of an industry is the primary basis for establishing, reviewing, or modifying small business size standards. In addition, SBA considers current economic conditions, its mission and program objectives, the Administration's current policies, impacts on small businesses under current size and proposed or revised size standards, suggestions from industry groups and Federal agencies, and public comments on the proposed rules. SBA also examines whether a size standard based on industry and other relevant data successfully excludes businesses that are dominant in the industry.

The goal of SBA's size standards review is to determine whether its existing small business size standards reflect the current industry structure and Federal market conditions and revise them when the latest available data suggests that revisions are warranted. Under the current Methodology, SBA uses the “percentile” approach to examine the industry structure.⁶ Under the percentile approach, for each industry factor, an industry is ranked and compared with the 20th percentile and 80th percentile values of that factor among the industries sharing the same measure of size standards (i.e., receipts or employees). Combining that result with the 20th percentile and 80th percentile values of size standards among the industries with the same measure of size standards, SBA computes a size standard supported by each industry factor for each industry. A more detailed description of the percentile method is provided in the SBA's Revised Methodology, available at www.sba.gov/size and on www.regulations.gov.

⁶ As part of revision to its size standards methodology in conjunction with the second 5-year review of size standards under the Jobs Act, SBA replaced the previous “anchor” size standards approach to analyzing industry structure with the “percentile” approach. The anchor approach is described in the SBA's 2009 Methodology, available at https://www.sba.gov/document/support-2009-size-standards-methodology-white-paper.

The primary factors that SBA evaluates to examine industry structure include average firm size, startup costs and entry barriers, industry competition, and distribution of firms by size. SBA also evaluates, as an additional primary factor, small business success in receiving Federal contracting assistance under the current size standards. These are, generally, the five most important factors SBA examines when establishing, reviewing, or revising a size standard for an industry. However, SBA will also consider and evaluate other secondary factors that it believes are relevant to a particular industry (such as technological changes, growth trends, SBA financial assistance, other program factors). SBA also considers possible impacts of size standard revisions on eligibility for Federal small business assistance, current economic conditions, the Administration's policies, and suggestions from industry groups and Federal agencies. Public comments on proposed rules also provide important additional information. SBA thoroughly reviews all public comments before making a final decision on its proposed revisions to size standards. Below are brief descriptions of each of the five primary factors that SBA has evaluated for each industry being reviewed in this proposed rule. A more detailed description of this analysis is provided in the SBA's Methodology, available at www.sba.gov/size and on www.regulations.gov.

1. Average firm size. SBA computes two measures of average firm size: simple average and weighted average. For industries with receipts based size standards, the simple average is the total receipts of the industry divided by the total number of firms in the industry. The weighted average firm size is the sum of weighted simple averages in different receipts size classes, where weights are the shares of total industry receipts for respective size classes. The simple average weighs all firms within an industry equally regardless of their size. The weighted average overcomes that limitation by giving more weight to larger firms. The size standard supported by average firm size is obtained by averaging size standards supported by simple average firm size and weighted average firm size.

If the average firm size of an industry is higher than the average firm size for most other industries, this would generally support a size standard higher than the size standards for other industries. Conversely, if the industry's average firm size is lower than that of most other industries, it would provide a basis to assign a lower size standard as compared to size standards for most other industries.

2. Startup costs and entry barriers. Startup costs reflect a firm's initial size in an industry. New entrants to an industry must have sufficient capital and other assets to start and maintain a viable business. If firms entering an industry under review have greater capital requirements than firms in most other industries, all other factors remaining the same, this would be a basis for a higher size standard. Conversely, if the industry has smaller capital needs compared to most other industries, a lower size standard would be considered appropriate.

Given the lack of actual data on startup costs and entry barriers by industry, SBA uses average assets as a proxy for startup costs and entry barriers. To calculate average assets, SBA begins with the sales to total assets ratio for an industry from the Risk Management Association's Annual Statement Studies, available at www.rmahq.org/estatement-studies. SBA then applies these ratios to the average receipts of firms in that industry obtained from the Economic Census tabulation. An industry with average assets that are significantly higher than most other industries is likely to have higher startup costs; this in turn will support a higher size standard. Conversely, an industry with average assets that are similar to or lower than most other industries is likely to have lower startup costs; this will support either lowering or maintaining the size standard.

3. Industry competition. Industry competition is generally measured by the share of total industry receipts generated by the largest firms in an industry. SBA generally evaluates the share of industry receipts generated by the four largest firms in each industry. This is referred to as the “four-firm concentration ratio,” a commonly used economic measure of market competition. Using the four-firm concentration ratio, SBA compares the degree of concentration within an industry to the degree of concentration of the other industries with the same measure of size standards. If a significantly higher share of economic activity within an industry is concentrated among the four largest firms compared to most other industries, all else being equal, SBA would set a size standard that is relatively higher than for most other industries. Conversely, if the market share of the four largest firms in an industry is appreciably lower than the similar share for most other industries, the industry will be assigned a size standard that is lower than those for most other industries.

4. Distribution of firms by size. SBA examines the shares of industry total receipts accounted for by firms of different receipts and employment sizes in an industry. This is an additional factor SBA considers in assessing competition within an industry besides the four-firm concentration ratio. If the preponderance of an industry's economic activity is attributable to smaller firms, this generally indicates that small businesses are competitive in that industry, which would support adopting a smaller size standard. A higher size standard would be supported for an industry in which the distribution of firms indicates that most of the economic activity is concentrated among the largest firms.

Concentration is a measure of inequality of distribution. To determine the degree of inequality of distribution in an industry, SBA computes the Gini coefficient, using the Lorenz curve. The Lorenz curve presents the cumulative percentages of units (firms) along the horizontal axis and the cumulative percentages of receipts (or other measures of size) along the vertical axis. (For further detail, see the SBA's Methodology on its website at www.sba.gov/size or www.regulations.gov.) Gini coefficient values vary from zero to one. If receipts are distributed equally among all the firms in an industry, the value of the Gini coefficient will equal zero. If an industry's total receipts are attributed to a single firm, the Gini coefficient will equal one.

SBA compares the degree of inequality of distribution for an industry under review with other industries with the same type of size standards. If an industry shows a higher degree of inequality of distribution (hence a higher Gini coefficient value) compared to most other industries in the group this would, all else being equal, warrant a size standard that is higher than the size standards assigned to most other industries. Conversely, an industry with lower degree of inequality (i.e., a lower Gini coefficient value) than most others will be assigned a lower size standard relative to others.

5. Federal contracting. Besides the industry factors discussed above, for industries averaging $20 million dollars or more in total Federal contract dollars annually, SBA considers a Federal contracting factor as one of the five primary factors when establishing, reviewing, or revising size standards. SBA examines the success small businesses are having in winning Federal contracts under the current size standard as well as the possible impact a size standard change may have on Federal small business contracting opportunities. The Small Business Act requires the Federal government to ensure that small businesses receive a “fair share” of Federal contracts. The legislative history also discusses the importance of size standards in Federal contracting.

The Federal contracting factor captures the extent to which small businesses are getting a “fair share” of Federal contracts under the current size standards. Under the current Methodology, a “fair share” is assessed in terms of two measures. One is the proportion of total contracts awarded to small businesses in relation to the proportion of small businesses in the total population of “ready, willing, and able” firms that are available to bid on or perform Federal contracts. The second one is the small business share of Federal contract obligations in an industry relative to the small business share of that industry's total receipts. Under the current Methodology, SBA accounts for these measuring using two disparity ratios, as described below.

As discussed in greater detail in the Revised Methodology available at www.sba.gov/size, a disparity ratio is defined as the ratio between the utilization ratio and the availability ratio. Representing the two measures to assess the extent to which small businesses are receiving a “fair share” of Federal procurements described above, SBA computes a disparity ratio using two methods. Under the first method (Disparity Ratio—Method 1), the utilization ratio is defined in terms of the small business share of total Federal contracts and the availability ratio is defined in terms of the proportion of small firms in the total population of “ready, willing, and able” firms that are available to bid on or perform Federal contracts. Under the second method (Disparity Ratio—Method 2), the utilization ratio is defined in terms of the small business share total contract obligations and the availability ratio is defined in terms of the small business share of total industry's receipts.⁷

⁷ This is a refinement to the 2019 Methodology, where SBA compared the small business share of total contract dollars in each industry with small business share of that industry's total receipts. If the small business share of an industry total receipts exceeded the small business share of total contract dollars by ten percentage points or more, SBA determined that small businesses were underrepresented in the Federal marketplace under the current size standard and a justification existed to increase that industry's current size standard. If that difference was less than ten percentage points, SBA considered that small businesses under the current size standard were represented well in the Federal market and the current size standard was considered adequate with respect to the Federal contracting factor.

If the disparity ratio is equal to 1.0, then there is no disparity (or there is parity) and small businesses are said to have been awarded Federal contracts in the same proportion as their representation in the industry. If the disparity ratio for an industry is 0.8 or higher (“close to or at parity” or “substantially above parity”), small businesses are said to be represented well in the Federal market, SBA considers that the current size standard for that industry as adequate. Small businesses are said to be “materially underrepresented” in industries in which the disparity ratio is between 0.5 and 0.8 and “substantially underrepresented” in industries in which the disparity ratio is less than 0.5. If the disparity ratio for an industry is less than 0.8 (“materially below parity” or “substantially below parity”), SBA considers the current size standard for that industry as inadequate, thereby warranting an upward adjustment of the current size standard.

Besides the impact on Federal contracting, SBA also examines impacts on SBA's loan programs both under the current and revised size standards.

Sources of Industry and Program Data

SBA's primary source of industry data used in this proposed rule for evaluating industry characteristics and developing proposed size standards is a special tabulation of the Economic Census from the U.S. Census Bureau (www.census.gov/econ/census). The tabulation based on the 2017 Economic Census is the latest available. The special tabulation provides industry data on the number of firms, number of establishments, number of employees, annual payroll, and annual receipts of companies by Industry (6-digit level), Industry Group (4-digit level), Subsector (3-digit level), and Sector (2-digit level). These data are arrayed by various classes of firms' size based on the overall number of employees and receipts of the entire enterprise (all establishments and affiliated firms) from all industries. The special tabulation also contains information for different levels of NAICS categories on average and median firm size in terms of both receipts and employment, total receipts generated by the four and eight largest firms, the Herfindahl-Hirschman Index (HHI) for the 50 largest firms, the Gini coefficient, and size distributions of firms by various receipts and employment size groupings.

In some cases, where data were not available due to disclosure prohibitions in the Census Bureau's tabulation, SBA either estimated missing values using available relevant data or examined data at a higher level of industry aggregation, such as at the NAICS 2-digit (Sector), 3-digit (Subsector), or 4-digit (Industry Group) level. In some instances, SBA's analysis was based only on those factors for which data were available or estimates of missing values were possible.

To evaluate industries that are not covered by the Economic Census, SBA used a similar special tabulation of the latest County Business Patterns (CBP) published by the U.S. Census Bureau (www.census.gov/programs-surveys/cbp.html). Similarly, to evaluate industries in NAICS Sector 11 that are also not covered by the Economic Census and CBP, SBA evaluated a similar special tabulation based on the 2017 Census of Agriculture (www.nass.usda.gov) from the National Agricultural Statistics Service (NASS). Similarly, to evaluate certain financial industries that have assets based size standards SBA examined the data from the Statistics on Depository Institutions (SDI) database and (https://www7.fdic.gov/sdi/download_large_list_outside.asp) of the Federal Depository Insurance Corporation (FDIC) data and data from National Credit Union Administration (NCUA) (https://ncua.gov/analysis/credit-union-corporate-call-report-data/quarterly-data).

To calculate average assets, SBA used sales to total assets ratios from the Risk Management Association's (RMA) Annual Statement Studies, 2021-2023 (www.rmahq.org/estatement-studies/). To evaluate the Federal contracting factor (i.e., disparity ratios) and exceptions and to determine impacts of size standards changes on small business access to Federal contracting, SBA examined the data on Federal prime contract awards from the FPDS (www.fpds.gov) for fiscal years 2021-2023. To assess the impact on financial assistance to small businesses, SBA examined its internal data on 7(a), CDC/504, micro, and economic injury disaster (EID) loan programs for fiscal years 2021-2023. SBA also evaluated the data from the SAM (www.sam.gov) to determine disparity ratios, industry factors for some exceptions, and impacts of size standards changes.

Data sources and estimation procedures SBA uses in its size standards analysis are documented in greater detail in the SBA's Revised Methodology, which is available at www.sba.gov/size and on www.regulations.gov.

Dominance in Field of Operation

Section 3(a) of the Small Business Act (15 U.S.C. 632(a)) defines a small business concern as one that is: (1) independently owned and operated; (2) not dominant in its field of operation; and (3) within a specific small business definition or size standard established by SBA Administrator. SBA considers as part of its evaluation whether a business concern at a proposed or revised size standard would be dominant in its field of operation. For this, SBA generally examines the industry's market share of firms at the proposed or revised size standard as well as the distribution of firms by size. Market share and size distribution may indicate whether a firm can exercise a major controlling influence on a national basis in an industry where a significant number of business concerns are engaged. If a contemplated size standard is found to include a dominant firm, SBA will consider a lower size standard to exclude the dominant firm from being defined as small.

Selection of Size Standards

In the 2009 Methodology that SBA applied to the first five-year comprehensive review of size standards under the Jobs Act, SBA adopted a fixed number of size standards levels as part of its effort to simplify size standards. In response to public comments to the 2009 Methodology, and the 2013 amendment to the Small Business Act (section 3(a)(8)) under section 1661 of the National Defense Authorization Act for Fiscal Year 2013 (NDAA 2013) (Pub. L. 112-239, January 2, 2013), in the 2019 Methodology, SBA relaxed the limitation on the number of small business size standards. Specifically, section 1661 of NDAA 2013 states “SBA cannot limit the number of size standards, and shall assign the appropriate size standard to each industry identified by NAICS.”

As in the 2019 Methodology, in the Revised Methodology, SBA calculates a separate size standard for each 6-digit NAICS industry. However, to account for errors and limitations associated with various data SBA evaluates in the size standards analysis, SBA rounds the calculated size standard value for a receipts based size standard to the nearest $500,000, except for agricultural industries in Subsectors 111 and 112 for which the calculated size standards will be rounded to the nearest $250,000. This rounding procedure is applied both in calculating a size standard for each of the five primary factors and in calculating the overall size standard for the industry.

As a policy decision, SBA continues to maintain the minimum and maximum levels for both receipts based and employee based size standards. Accordingly, SBA will not generally propose or adopt a size standard that is either below the minimum level or above the maximum, even though the calculations yield values below the minimum or above the maximum. The minimum size standard reflects the size an established small business should be to have adequate capabilities and resources to be able to compete for and perform Federal contracts (but does not account for small businesses that are newly formed or just starting operations). On the other hand, the maximum size standard represents the size above which businesses, if qualified as small, would outcompete much smaller businesses when accessing Federal assistance.

With respect to receipts based size standards, SBA has established $8 million and $47 million, respectively, as the minimum and maximum size standard levels (except for most agricultural industries in NAICS Subsectors 111 and 112). These levels reflect the current minimum of $8 million and the current maximum of $47 million. The industry data suggests that the $8 million minimum and $47 million maximum size standards would be too high for agricultural industries. Accordingly, SBA has established $2.25 million as the minimum size standard and $5.5 million as the maximum size standard for industries in Subsector 111 (Crop Production) and Subsector 112 (Animal Production and Aquaculture).

Evaluation of Industry Factors

As mentioned earlier, to assess the appropriateness of the current size standards, SBA evaluates the structure of each industry in terms of four economic characteristics or factors, namely average firm size, average assets size as a proxy for startup costs and entry barriers, the four-firm concentration ratio as a measure of industry competition, and size distribution of firms using the Gini coefficient. For each size standard type (i.e., receipts based or employee based), SBA ranks industries both in terms of each of the four industry factors and in terms of the existing size standard and computes the 20th percentile and 80th percentile values for both. SBA then evaluates each industry by comparing its value for each industry factor to the 20th percentile and 80th percentile values for the corresponding factor for industries under a particular type of size standard.

If the characteristics of an industry under review within a particular size standard type are similar to the average characteristics of industries within the same size standard type in the 20th percentile, SBA will consider adopting as an appropriate size standard for that industry the 20th percentile value of size standards for those industries. For each size standard type, if the industry's characteristics are similar to the average characteristics of industries in the 80th percentile, SBA will assign a size standard that corresponds to the 80th percentile in the size standard rankings of industries. A separate size standard is established for each factor based on the amount of differences between the factor value for an industry under a particular size standard type and 20th percentile and 80th percentile values for the corresponding factor for all industries in the same type. Specifically, the actual level of the new size standard for each industry factor is derived by a linear interpolation using the 20th percentile and 80th percentile values of that factor and corresponding percentiles of size standards. Each calculated size standard is bounded between the minimum and maximum size standards levels, as discussed before. As noted earlier, the calculated value for a receipts based size standard for each industry factor is rounded to the nearest $500,000, except for industries in Subsectors 111 and 112 for which a calculated size standard is rounded to the nearest $250,000.

Table 2, 20th and 80th Percentiles of Industry Factors for Receipts Based Size Standards, shows the 20th percentile and 80th percentile values for average firm size (simple and weighted), average assets size, four-firm concentration ratio, and Gini coefficient for industries with receipts based size standards.

Estimation of Size Standards Based on Industry Factors

An estimated size standard supported by each industry factor is derived by comparing its value for a specific industry to the 20th percentile and 80th percentile values for that factor. If an industry's value for a particular factor is near the 20th percentile value in the distribution, the supported size standard will be one that is close to the 20th percentile value of size standards for industries in the size standards group, which is $13.5 million. If a factor for an industry is close to the 80th percentile value of that factor, it would support a size standard that is close to the 80th percentile value in the distribution of size standards, which is $40 million. For a factor that is within, above, or below the 20-80th percentile range, the size standard is calculated using linear interpolation based on the 20th percentile and 80th percentile values for that factor and the 20th percentile and 80th percentile values of size standards.

For example, if an industry's simple average receipts are $1.9 million, that would support a size standard of $16.5 million. According to Table 2, the 20th percentile and 80th percentile values of average receipts are $1.09 million and $8.34 million, respectively. The $1.9 million is 11.2 percent between the 20th percentile value ($1.09 million) and the 80th percentile value ($8.34 million) of simple average receipts (($1.9 million−$1.09 million) ÷ ($8.34 million−$1.09 million) = 0.112 or 11.2%). Applying this percentage to the difference between the 20th percentile value ($13.5 million) and 80th percentile ($40 million) value of size standards and then adding the result to the 20th percentile size standard value ($13.5 million) yields a calculated size standard value of $16.46 million ([{$40 million−$13.5 million} * 0.112] + $13.5 million = $16.46 million). The final step is to round the calculated $16.46 million size standard to the nearest $500,000, which in this example yields $16.5 million. This procedure was applied to calculate size standards supported by other industry factors.

Detailed formulas involved in these calculations are presented in the SBA's Revised Methodology, which is available on its website at www.sba.gov/size and on www.regulations.gov.

Derivation of Size Standards Based on Federal Contracting Factor

As discussed above, besides industry structure, SBA also evaluates Federal contracting data to assess the success of small businesses in getting Federal contracts under the existing size standards. For each industry with $20 million or more in annual Federal contract dollars, SBA computes two disparity ratios to account for the Federal contracting factor. The first disparity ratio (Disparity Ratio—Method (1) captures the extent to which small businesses are receiving a “fair share” of contracts relative to total number of Federal contracts in an industry. The second disparity ratio (Disparity Ratio- Method (2) measures the extent to which small businesses are receiving a “fair share” of Federal contract obligations relative to total obligations in an industry. All other factors being equal, if the disparity ratio is less than 0.8, either materially or substantially below parity, a justification would exist for considering a size standard higher than the current size standard. Conversely, if the disparity ratio is 0.8 or higher, close to or at parity or substantially above parity, this will support the current size standard.

SBA increases the existing size standards by certain percentages when the disparity ratio is materially below parity (i.e., >= 0.5 to <0.8) or substantially below parity (i.e., <0.5). The amount of increases to size standards based on disparity ratios is contingent upon (1) whether the ratio is materially or substantially below parity, and (2) the level of current size standards. These proposed percentage increases for receipts-based size standards are given in Table 3, Proposed Adjustments to Receipts Based Size Standards Based on Disparity Ratio. As explained previously, adjusted receipts based size standards are rounded to the nearest $500,000 (or nearest $250,000 for receipts based size standards in Subsectors 111 and 112).

For example, if an industry with the current size standard of $19.5 million had disparity ratios of 0.6174 (i.e., materially below parity) and 0.3006 (i.e., substantially below parity) for Method 1 and Method 2, respectively. According to the above rule in Table 3, the new size standard for the first disparity ratio (Method 1) for that industry would be set by multiplying the current $19.5 million standard by 1.3 (i.e., 30% increase) and then by rounding the result to the nearest $500,000, yielding a size standard of $25.5 million. Similarly, the new size standard for the second disparity ratio would be set by multiplying the current $19.5 million standard by 1.6 (i.e., 60% increase) and then by rounding the result to the nearest $500,000, yielding a size standard of $31 million. By averaging the size standards supported by the two disparity ratios and then by rounding the result to the nearest $500,000 would yield a size standard $28.5 million for the Federal contracting factor.

Of the 513 industries or subindustries (“exceptions”) reviewed in this proposed rule, SBA evaluated the disparity ratios for 207 industries/subindustries that had $20 million or more in average annual Federal contract dollars during fiscal years 2021-2023. Based on Method 1, the disparity ratio value was 0.8 or higher for 69 industries/subindustries, between 0.5 and 0.8 for 67 industries/subindustries, and less than 0.5 for 63 industries/subindustries. According to Method 2, the disparity ratio value was 0.8 or higher for 129 industries/subindustries, between 0.5 and 0.8 for 21 industries/subindustries, and less than 0.5 for 54 industries/subindustries. These results by NAICS sector are shown in Table 4, Number of Industries with Receipts Based Size Standards by Values of Disparity Ratios (NAICS 2022). Due to the lack of relevant data, SBA could not compute the disparity ratio(s) for a few industries. Based on the disparity ratio results, the Federal contracting factor resulted in increases to size standards for 122 industries/subindustries and no change to size standards for 81 industries/subindustries.

Derivation of Overall Industry Size Standard

The SBA's Revised Methodology presented above results in five separate size standards based on evaluation of the five primary factors (i.e., four industry factors and one Federal contracting factor). SBA typically derives an industry's overall size standard by assigning equal weights to size standards supported by each of these five factors. However, if necessary, SBA's Revised Methodology would allow assigning different weights to some of these factors for certain industries in response to its policy decisions and other considerations. For detailed calculations, see the SBA's Revised Methodology, available on its website at www.sba.gov/size and on www.regulations.gov.

BILLING CODE 8026-09-P

BILLING CODE 8026-09-C

Calculated Size Standards Based on Industry and Federal Contracting Factors

Table 5, Size Standards Supported by Each Factor for Each Industry (Receipts), below, shows the results of analyses of industry and Federal contracting factors for each industry and subindustry (exception) covered by this proposed rule. NAICS industries in columns 2, 3, 4, 5, 6, 7, 8, and 9 show two numbers. The upper number is the value for the industry or Federal contracting factor shown on the top of the column and the lower number is the size standard supported by that factor. Column 10 shows a calculated new size standard for each industry. This is the average of the size standards supported by each factor. The size standard for average firm size is an average of size standards supported by simple average firm size and weighted average firm size. Similarly, the size standard for the Federal contracting factor is an average of size standards supported by two disparity ratios (Methods 1 and 2). The calculated size standards for each factor and overall size standards are rounded to the nearest $500,000 for non-agriculture industries and rounded to the nearest $250,000 for agriculture industries. Analytical details involved in the averaging procedure are described in SBA's Revised Methodology, which is available on its website at www.sba.gov/size and on www.regulations.gov. For comparison with the calculated new size standards, the current size standards are in column 11 of Table 5.

BILLING CODE 8026-09-P

BILLING CODE 8026-09-C

Methodology for Agricultural Size Standards

As stated elsewhere in this rule, NDAA 2017 directed SBA to establish the size standards for agricultural industries in NAICS Subsectors 111 and 112 in the same manner that the Agency establishes the size standards for other industries and to include them in the five-year rolling review under the Jobs Act. Accordingly, in this proposed rule, SBA has evaluated those industries using the same industry and Federal contracting factors that it uses in evaluating characteristics of all other industries and their size standards. However, the industry data from the 2017 Agricultural Census tabulation reveals that firms in agricultural industries are much smaller than those in all other industries with receipts based size standards. Therefore, as stated earlier, based on the data, SBA has established $2.25 million and $5.5 million as the minimum and maximum receipts based size standard levels, respectively, for agricultural industries, as opposed to $8 million as the minimum and $47 million as the maximum receipts based size standard levels for all other industries. As shown in Table 2 (above), except for the Gini coefficient, the 20th percentile and 80th percentile values of industry factors are much lower for agricultural industries in Subsectors 111 and 112 (except NAICS 112112 and 112310) than those for other industries with receipts based size standards. Similarly, SBA rounds a calculated receipts based size standard for agricultural industries to the nearest $250,000 instead of rounding it to the nearest $500,000 as for other industries.

Of the 46 NAICS 6-digit industries in Subsectors 111 and 112, the special tabulation of the 2017 Census of Agriculture provided data for 36 industries at the NAICS 6-digit level. Of the remaining ten (10), seven (7) were aggregated at three different 5-digit NAICS levels and three (3) were aggregated at one 4-digit NAICS level. SBA ranked these 40 industry categories (i.e., thirty-six (36) 6-digit, three (3) 3-digit, and one (1) 4-digit) in terms of each industry factor and obtained the 20th percentile an 80th percentile values for each factor. The results are shown in Table 2. Based on the current size standards for industries in Subsectors 111 and 112, SBA computed $2.5 million as the 20th percentile and $4 million as 80th percentile values of size standards for agricultural industries. Combining these results with the 20th percentile and 80th percentile values of industry factors for agricultural industries in Table 2, SBA computed a size standard for each factor for each industry. These results are provided in Table 5, above.

For the 10 industries for which the data did not exist at the 6-digit NAICS level, SBA estimated the size standard at the 5- or 4-digit NAICS level at which the data were available and applied the same results to the relevant 6-digit NAICS levels. These results are shown, below, in Table 7, Calculated Agricultural Size Standards at the 4- or 5-Digit NAICS Level Matched to the 6-Digit Level.

BILLING CODE 8026-09-P

BILLING CODE 8026-09-C

Evaluation of Size Standards for Subindustry Categories or “Exceptions”

The SBA's table of size standards contains 13 receipts based size standards for subindustry categories below the six-digit NAICS level, which are commonly referred to as “exceptions” and used specifically for Federal Government contracting purposes. The data from the Census Bureau's 2017 Economic Census special tabulation are limited to the six-digit NAICS industry level and therefore do not provide information on economic characteristics of firms at the subindustry level. In accordance with SBA's approach to evaluating size standards for subindustry categories (or “exceptions”), SBA has evaluated the 13 exceptions covered by this rule using the procedures described in the SBA's Revised Methodology. Specifically, SBA uses data from FPDS and SAM to derive the industry and Federal contracting factors to evaluate size standards at the subindustry levels. Under the Revised Methodology, the Agency also uses the same data sources to derive the 20th and 80th percentile values of industry factors to evaluate exceptions. Based on the FPDS/SAM data for fiscal years 2021-2023, the 20th percentile and 80th percentile values of industry factors for receipts based exceptions are shown in Table 7, 20th and 80th Percentiles of Industry Factors for Receipts Based Exceptions, below. The results from the analyses of receipts based exceptions are discussed in the following subsections.

Forest Fire Suppression and Fuel Management Services Exceptions

Forest Fire Suppression and Fuels Management Services are two subindustry categories or “exceptions” under NAICS 115310 (Support Activities for Forestry), each with the current size standard of $34 million in average annual receipts. In 2003, SBA established a different size standard for these subindustry activities (68 FR 33348, June 4, 2003). In 2013, as part of the first five-year review of size standards under the Jobs Act, SBA maintained the then existing $17.5 million as the size standard for these exceptions (78 FR 37398; June 20, 2013), and subsequently, as part of the 2014 adjustment to monetary based size standards for inflation, the Agency increased the size standard from $17.5 million to $19 million (79 FR 33647, June 12, 2014), and as part of the 2019 inflationary adjustment of monetary based size standards, it was increased from $19 million to $20.5 million (84 FR 34261, July 18, 2019).

In 2020, as part of the second five-year review of size standards under the Jobs Act, SBA proposed $25 million as the size standard for both Forest Fire Suppression and Fuel Management Services exceptions. The data supported $23.5 million but SBA proposed a higher $25 million for the reasons discussed in the October 2020 proposed rule (85 FR 62239; October 2, 2020). In the final rule, in response to public comments and results from more recent data, SBA adopted a $30 million size standard for these exceptions (87 FR 18607; March 31, 2022), which was subsequently increased to $34 million as part of the 2022 adjustment of monetary based size standards for inflation (87 FR 69118; November 17, 2022).

The data from the 2017 Census Bureau and NASS special tabulations are limited to the 6-digit NAICS industry level, and hence, do not provide separate data to evaluate a size standard at the subindustry level. As such, SBA relied upon data from other sources to evaluate the current $34 million size standard for both exceptions.

Firms engaged in the Forest Fire Suppression and Fuels Management Services subindustries or exceptions were identified from the contracting data reported in FPDS during fiscal years 2021-2023 and data obtained from the USDA Forest Service. Specifically, the contracts under Forest Fire Suppression and Fuels Management Services exceptions can be identified as those classified within NAICS 115310 under the Product and Services Code (PSC) F003 (Natural Resources/Conservation—Forest-Range Fire Suppression/Presuppression). SBA also evaluated the contract data from the USDA Forest Service National Interagency Fire Center (https://www.fs.fed.us/managing-land/fire and http://www.fs.fed.us/business/incident/vipr.php). SBA also evaluated the description of requirements of the contracts for Forest Fire Suppression and Fuels Management Services in FPDS to identify principal activities related to forest fire suppression and fuel management services and to differentiate them from other support activities for forestry. SBA identified activities associated with specialized crews, equipment and engines with trained personnel that are critical to perform the tasks of suppressing or managing fires as principal activities and other activities, such as leases of equipment, machinery and transportation vehicles, or provision of services that do not require specialized personnel or training as supporting activities. Since most firms involved in Fire Suppression Services were also found to be involved in Fuels Management Services and vice versa, SBA analyzed the two exceptions as one subindustry category.

Additionally, SBA obtained receipts and employment data on forest fire suppression contractors for the fiscal years 2021-2023 from FPDS and SAM to develop industry and Federal contracting factors for evaluating the size standard for the two exceptions. SBA chose firms with receipts greater than zero and less than $1 billion. For the forest fire suppression industry, firms with receipts over $1 billion are outliers and their revenues would skew the data. For firms with receipts over $1 billion, Federal forest suppression contracts contributed to less than 0.01 percent of their total receipts. Similarly, firms with receipts at or below zero have insignificant contributions to total Federal contract dollars obligated to the fire suppression industry.

Finally, SBA also excluded from analysis firms with more than 1,500 employees, as fire suppression is not the primary activity for enterprises with over 1,500 employees. For example, for companies with over 1,500 employees, fire suppression contract dollars accounted for less than 0.01 percent of their total receipts.

Table 8, below, shows the results from the analysis of these subindustries, which support a $20 million receipts based size standard for Forest Fire Suppression and Management Services exceptions compared to the current $34 million. SBA also evaluated information from agencies that deal with fire suppression activity, and analyzed the effects of the time and intensity increases of the wildfire activity. Given the inherent uncertainty of forest fires and recent surges in forest fire incidents and significantly extended fire seasons in recent years, SBA believes that contracting officers need flexibility to hire enough small businesses, especially in the worst-case scenario. In a very busy fire season, it is plausible to assume fire seasons of 180 days of shifts of 14 hours. A crew generally consists of 18-20 firefighters. Therefore, for 6 crews (i.e., the average number of crews among a sample of firefighting contractors during 2021-2024) with 20 firefighters each at 61 dollars per person per hour (the average hourly rate estimated from a sample of fire suppression contracts for 2021 to 2024), for a season of 180 days and shifts of 14 hours, the total revenue is about $18 million. For firms with 11 crews, the total revenue could easily reach $34 million. These estimates consider only the revenue from firefighting activities during the fire seasons, not the revenue from non-firefighting activities during the off-seasons. The hourly forest fire suppression costs have increased about 42 percent since the last review of the Forest Fire Suppression and Fuel Management Services exception size standard, mainly due to increases in hourly wages, equipment, and material costs. The hourly rates include only payments to firefighters that relate to direct fire suppression activities, including wages, materials, equipment, vehicles, insurance, etc. These amounts do not include payments for fire engines, water tenders, food caterers, etc., which are classified under different NAICS codes.

SBA methodological analysis supports a $20 million size standard for Forest Fire Suppression and Fuel Management Services exceptions. Nevertheless, given the recent increases to the wildfire activity and fire suppression costs and its proposed policy of not diminishing any size standards even if analytical results might support decreases to size standards, SBA proposes to keep the size standard for the Forest Fire Suppression and Fuels Management Services exceptions at $34 million, and seeks comments on this proposal.

BILLING CODE 8026-09-P

BILLING CODE 8026-09-C

Dredging and Surface Cleanup Activities

The Dredging and Surface Cleanup Activities (Dredging) size standard is an exception established by SBA within NAICS 237990 (Other Heavy and Civil Engineering Construction). As stated previously, the data from the Census Bureau's special tabulation of the Economic Census is limited to the 6-digit NAICS industry level, and hence, does not provide separate data at the subindustry level to evaluate exceptions. Accordingly, SBA relied upon the data from other sources to evaluate the current $37 million size standard for Dredging.

SBA identified firms engaged in the Dredging subindustry using the contract awards data within NAICS 237990 in FPDS for fiscal years 2021-2023. Specifically, dredging contracts were identified as those classified under one of the following Product and Service Codes (PSCs): C1KF—Architect and Engineering Construction—Dredging Facilities; M1KF—Operation of Dredging Facilities; X1KF—Lease/Rental of Dredging Facilities; Y1KF—Construction of Dredging Facilities; Y216—Construction of Dredging; Z1KF—Maintenance of Dredging Facilities; Z2KF—Repair or Alternation of Dredging Facilities; Z216—Maintenance, Repair or Alteration of Dredging; and 1955—Dredges.

SBA obtained receipts and employment data for the identified Dredging firms from SAM and FPDS to develop industry and Federal contracting factors for Dredging. Contracting data from the US Army Corps of Engineers' Navigation and Civil Works Decision Support Center (NDC) and annual reports from Dredging Contractors of America (DCA) were also considered, but not included in the analysis as neither provide business size and have lower Dredging firm coverage than FPDS. Firms with extreme observations, firms with joint venture contracts, and those for which Dredging Federal contracts dollars accounted for a very small percentage of their average annual receipts were excluded from the analysis. Following these data cleaning steps, SBA evaluated 128 resultant Dredging firms that have received Federal contracts under NAICS 237990 and the above PSCs during fiscal years 2021-2023.

Recently adopted methodological changes that impact calculated size standards include: (1) Replacing the 2019 Methodology for computing the Federal contracting factor with the disparity ratio approach to evaluate all industries and subindustries or “exceptions,” and (2) Using standardized FPDS/SAM data in place of Economic Census data for computation of the 20th percentile and 80th percentile values of industry factors to evaluate exceptions. The 20th percentile and 80th percentile values of industry factors for receipts based exceptions can be found on Table 7, above. The disparity ratio thresholds and amounts of size standards adjustments can be found on Table 3, above.

BILLING CODE 8026-09-P

BILLING CODE 8026-09-C

Table 9, Size Standards Supported by Each Factor for Dredging Exception to NAICS 237990 ($ Million), above, shows the results from the analysis of the Dredging subindustry that support lowering the current $37 million size standard for the Dredging exception to $21.5 million. As shown in Table 5, the results for overall NAICS 237990 also yields a smaller calculated size standard of $30 million, as compared to the current size standard of $45 million. Thus, while the latest available industry and Federal contracting data support lowering the size standards for both overall NAICS 237990 and Dredging, the results still support maintaining a distinct, lower size standard for Dredging.

Of the 128 Dredging firms that received Federal contracts during fiscal years 2021-2023, 110 (or 85.9%) would be considered small under the current $37 million size standard. Under the calculated $21.5 million size standard, 97 firms (or 75.8%) would be considered small. Thus, 11.8 percent of currently small Dredging firms receiving Federal contracts would be impacted if SBA were to adopt the calculated $21.5 million size standard for Dredging.

For the reasons for not decreasing size standards discussed elsewhere in this proposed rule, SBA is proposing to maintain the current size standard of $45 million for the overall NAICS 237990 and the current size standard of $37 million for the Dredging exception even if the data suggested that both size standards might be decreased. However, SBA is seeking comments on whether Dredging should continue to be treated as an exception to NAICS 237990 or if it should be eliminated and subject it to the same overall NAICS 237990 industry size standard.

Non-Vessel Owning Common Carriers and Household Goods Forwarders

Non-Vessel Owning Common Carriers and Household Good Forwarders (NVOCCHGF) is an “exception” or subindustry under NAICS 488510 (Freight Transportation Arrangement), with the size standard of $34 million in average annual receipts. As stated above, the data that SBA receives from the Census Bureau's Economic Census special tabulation are limited to the 6-digit NAICS industry level and therefore do not provide information on economic characteristics of firms at the sub-industry level. Thus, for reviewing or modifying size standards at the subindustry levels (“exceptions”), SBA normally evaluates the data from FPDS and SAM using a two-step procedure. First, using FPDS, SBA identifies Product and Service Codes (PSCs) that correspond to specific exceptions. SBA then identifies firms that have received Federal contracts under those PSCs and evaluates their receipts and employee data from SAM and FPDS to derive the values for industry and Federal contracting factors.

Contracting activity for NAICS 488510 including the NVOCCHGF exception is distributed over 70 different PSCs. Using FPDS data for fiscal years 2021-2023, SBA identified five primary PSCs that correspond to the overall industry including the exception, accounting for 97.8 percent of total dollars obligated on NAICS 488510. These PSCs are V119 (Transportation/Travel/Relocation—Transportation: Other), V111 (Transportation/Travel/Relocation—Transportation: Air Freight), V112 (Transportation/Travel/Relocation—Transportation: Motor Freight), R706 (Support—Management: Logistics Support), and V115 (Transportation/Travel/Relocation—Transportation: Vessel Freight). The top PSC, V119, alone accounts for nearly 80 percent of total dollars obligated to NAICS 488510. Table 10, Top Five PSCs of NAICS 488510 and Average Dollars Obligated, Fiscal Years 2021-2023, below, identifies these five PSCs and their average annual total dollars obligated for the fiscal years 2021-2023.

SBA analyzed the contracting activities under these PSCs, but the Agency was unable to reliably differentiate the level of activity corresponding to the NVOCCHGF exception versus the overall NAICS 488510 industry, and hence to identify any PSCs that would correspond uniquely to the exception.

SBA also reviewed the distribution of Federal contracts awarded to small and other than small businesses in the overall NAICS 488510 industry for fiscal years 2022-2023. SBA found that only about $6 million or 1.4 percent of the $422 million obligated to the overall NAICS 488510 industry went to small businesses. Thus, while the total contracting dollars obligated to all firms in the industry is significant, the total dollars obligated to small firms is not. Additionally, the top agencies using NAICS 488510 are Departments of Army and Navy, which account for 92.4 percent of total dollars obligated during the period evaluated.

To differentiate the NVOCCHGF exception from the overall NAICS 488510 industry and to determine its economic characteristics, as part of the second five-year review of size standards, in the 2020 proposed rule (85 FR 62372, October 2, 2020), SBA evaluated the 2012 Economic Census subindustry data found in the U.S. Census Bureau American FactFinder. The 2012 Economic Census data divided NAICS 488510 in two sub-components identified with an additional digit (such break down was not available in the 2017 Economic Census data). The first 7-digit NAICS 4885101 corresponded to Freight Forwarders and the second 7-digit NAICS 4885102 corresponded to Arrangement of Transportation of Freight and Cargo. The NAICS 4885101 includes non-vessel operating common carrier (NVOCC) service as one of the principal activities. SBA understood that NAICS 4885101 corresponds to the activity classified as an exception to the general NAICS 6-digit 488510. NAICS 4885101 includes multimodal activities supporting transportation, and the firms assume responsibility for delivery of the goods.⁹

⁹ The Census definition is: “This U.S. Census Bureau NAICS-based industry comprises establishments primarily engaged in undertaking the transportation of goods from shippers to receivers for a charge covering the entire transportation, and in turn making use of the services of various freight carriers in affecting delivery, paying transportation charges, and assuming responsibility for delivery of the goods. There is no relationship between shippers and the various freight carriers delivering the goods.”

In the 2020 proposed rule, SBA compared the economic characteristics of NAICS 4885101 to those for the overall industry and found them to be similar. The results are provided in Table 6 of the 2020 proposed rule (p. 62382), Industry Comparison NAICS 488510 and NAICS 4885101. Despite the similarities between the overall NAICS 488510 industry and the NVOCCHGF exception, in light of important distinctions between freight forwarders and NVOCCs, as discussed in the 2020 proposed rule, SBA proposed to retain the exception with a higher $30 million size standard than the proposed $17.5 million size standard for the overall industry, which SBA adopted in the final rule (87 FR 18627, March 31, 2022).

Nevertheless, in this proposed rule, considering similarities in economic characteristics between the NVOCCHGF exception and the overall NAICS 488510 industry, absence of uniquely identifiable PSCs corresponding to the exception, and a lack of other industry data to adequately evaluate the exception industry, SBA is proposing to eliminate the NVOCCHGF exception to NAICS 488510. Furthermore, considering very low utilization of small businesses in Federal contracting under the current size standard, SBA proposes to apply to the general NAICS 488510 industry a higher $34 million size standard that currently applies to the NVOCCHGF exception. The evaluation of the most industry and Federal contracting factors of firms receiving Federal contracts under the above mentioned top five PSCs in NAICS 488510 using the FPDS data also suggests that a size standard that is significantly higher than the current $20 million standard is warranted for NAICS 488510. Additionally, the proposed higher $34 million size standard would enable firms that currently qualify as small under the NVOCCHGF exception size standard to continue their eligibility for small business assistance. Finally, this is also consistent with SBA's proposed policy of not decreasing any size standards except for excluding dominant firms from qualifying as small.

SBA invites comments, along with supporting information, on this proposal as well as suggestions on whether the proposed elimination of the NVOCCHGF exception to NAICS 488510 and the application of the proposed $34 million for the overall NAICS 488510 industry are appropriate, even though the analytical results support a lower $23.5 million size standard for that industry.

Exception to NAICS Industry Group 5311 (Lessors of Real Estate): Leasing of Building Space to the Federal Government by Owners

The current size standard for Federal contracts for Leasing of Building Space to Federal Government by Owners (“exception” to NAICS Industry Group 5311 (NAICS 531110, 531120, 531130, and 531190)) is $47 million in average annual receipts. This size standard applies only to certain Federal contracting opportunities that meet specific criteria. Footnote 9 of SBA's table of size standards (13 CFR 121.201) reads: “For Government procurement, a size standard of $47 million in gross receipts applies to the owners of building space leased to the Federal Government. This size standard does not apply to an agent.”

To determine if the current $47 million size standard to the exception is appropriate, SBA evaluated average firm size, average assets size, market concentration, and size distribution of firms involved in Leasing of Building Space to Federal Government by Owners. SBA used data from FPDS and SAM and followed the two-step procedure described in Revised Methodology. Based on the data for fiscal years 2021-2023, Federal contracts awarded to NAICS 531110, 531120, 531130, and 531190 averaged about $203 million annually, with the largest percentage going to NAICS 531120 (55.2%). First, SBA chose to analyze firms that were awarded contracts to the following Product and Service Codes (PSCs): X111/X1AA (Lease/Rental of Office Buildings), X1FA (Lease/Rental of Family Housing Facilities), X1AZ (Lease/Rental of Other Administrative Facilities and Service Buildings), X1FZ (Lease/Rental of Other Residential Buildings), and X1GZ/X179 (Lease/Rental of Other Warehouse Buildings) across the four industries within NAICS Industry Group 5311. As shown in Table 11, Selected PSCs in NAICS Industry Group 5311 and Average Total Dollars Obligated, Fiscal Years 2021-2023, below, dollars obligated to these PSCs averaged $97 million annually in fiscal years 2021-2023, which represents 47.9 percent of total dollars obligated to these four NAICS 6-digit industries. The Lease/Rental of Office Buildings, X111/X1AA, alone, accounted for 30.3 percent. Then, SBA evaluated the size and contract data on those firms from FPDS and SAM to obtain industry and Federal contracting factors. The results, as shown in Table 12, Size Standards Supported by Each Factor for Leasing of Building Space to the Federal Government by Owners Exception to NAICS 5311 ($ Million), below, support a size standard of $43.5 million.

However, for reasons for not decreasing size standards as explained elsewhere in this proposed rule, SBA is retaining the current $47 million size standard for Leasing of Building Space to the Federal Government by Owners, even though the analytical results support a lower $43.5 million size standard.

BILLING CODE 8026-09-P

BILLING CODE 8026-09-C

Exceptions to NAICS 541330: Military and Aerospace Equipment and Military Weapons; Contracts and Subcontracts for Engineering Services Awarded Under the National Energy Policy Act of 1992; Marine Engineering and Naval Architecture

Currently, NAICS 541330 (Engineering Services) has four size standards that apply to Federal contracts for different classifications of engineering services. In addition to general Engineering Services with a size standard of $25.5 million in average annual receipts, there are three subindustry groups or “exceptions”, each with a size standard of $47 million: Exception 1—Military and Aerospace Equipment and Military Weapons (MAEMW), Exception 2—Contracts and Subcontracts for Engineering Services Awarded Under the National Energy Policy Act of 1992, and Exception 3—Marine Engineering and Naval Architecture (MENA).

SBA's recent changes to its size standards methodology that impact calculated size standards for the exceptions include: (1) Replacing the 2019 Methodology for computing the Federal contracting factor with the disparity ratio approach, and (2) Using standardized FPDS/SAM data to compute the 20th percentile and 80th percentile values of industry factors to evaluate exceptions. Table 3, above, shows the disparity ratio thresholds and size standard adjustment amounts. Table 7, above, shows the 20th percentile and 80th percentile values of industry factors for receipts based exceptions.

As stated previously, the data in the 2017 Economic Census special tabulation is limited to the 6-digit NAICS industry level; subindustry level data to evaluate exceptions are not available. FPDS/SAM is the primary data source to evaluate exceptions, including the current $47 million size standard for the three exceptions under NAICS 541330. The Economic Census data for NAICS 541330 are aggregates of both general engineering services and specialized engineering services that fall under the three exceptions. Thus, the results based on the Economic Census data for NAICS 541330 may not accurately reflect the characteristics of businesses providing specialized services included under those exceptions. The lack of relevant data at the subindustry level makes it challenging to determine whether the current $47 million size standard for the three exceptions should be revised or left unchanged.

To determine whether the Agency should consider revising the current $47 million size standard for three exceptions under NAICS 541330, SBA evaluated the FY 2021-2023 data from FPDS/SAM using a two-step procedure. First, using FPDS, SBA identified Product and Service Codes (PSCs) that correspond to the MAEMW and MENA exceptions. SBA then identified firms that have received Federal contracts under those PSCs and evaluated their size data from FPDS/SAM to derive the values of industry and Federal contracting factors for evaluating those exceptions.

Using the FPDS data for fiscal years 2021-2023, SBA identified 91 PSCs that correspond to the MAEMW exception. A total of 304 unique firms were found to have received contracts under those 91 PSCs. SBA analyzed the size and contracting data of these firms to derive the industry and Federal contracting factors for the MAEMW exception. As shown in Table 13, below, the results supported a $41 million size standard for the MAEMW exception, as compared to the current $47 million size standard.

BILLING CODE 8026-09-P

BILLING CODE 8026-09-C

Of the 304 firms that received Federal contracts for engineering services under the MAEMW exception, 245 or 80.6 percent were classified as small under the current $47 million size standard. The calculated $41 million size standard would classify 243 firms, or 79.9 percent, as “small”. Thus, if SBA were to adopt a lower $41 million calculated size standard for the MAEMW exception, it would cause only two currently small MAEMW firms, or 0.7 percent, to lose their small business status. Those two firms received about $63.2 million in annual small business contract dollars during fiscal years 2021-2023, accounting for less than 1 percent of total contract dollars that were awarded to all firms under the MAEMW exception. Causing those firms to lose their small business status would put about 286 engineering jobs at risk. Such a proposal would also run counter to SBA's proposed policy of not lowering size standards, except for excluding dominant firms from qualifying as small.

Similarly, SBA identified 42 PSCs that correspond to the scope of work under the MENA exception, covering a total of 129 unique firms. SBA analyzed the size and contracting data of these firms to derive the industry and Federal contracting factors for the MENA exception. As shown in Table 13, above, the results supported a $26 million size standard for the MENA exception.

Of the 129 firms that received Federal contracts for engineering services under the MENA exception, 108 or 83.7 percent were classified as small under the current $47 million size standard. The calculated $26 million size standard would classify 98 firms, or 76.0 percent, as “small”. Thus, if SBA were to adopt a lower $26 million calculated size standard for the MENA exception, it would cause 10 currently small MENA firms, or 7.8 percent, to lose their small business status. Those 10 firms received about $301.7 million in annual small business contract dollars, accounting for more than 4.6 percent of total contract dollars that were awarded to all firms under the MENA exception. Causing those firms to lose their small business status would put about 1,365 engineering jobs at risk. As stated above with respect to decreasing the size standard for the MAEMW exception, such a proposal would also run counter to SBA's proposed policy of not lowering size standards, except for excluding dominant firms from qualifying as small.

As shown in Table 5, above, the results support a $29 million size standard for the general NAICS 541330 engineering industry. Thus, with a $41 million calculated size standard for the MAEMW exception and a $26 million calculated size standard for the MENA exception, the results continue to support maintaining MAEMW, but not MENA as separate exception categories under NAICS 541330 with a higher size standard. Moreover, although the analytical results suggest decreases from the current $47 million to the calculated $41 million for the MAEMW exception and to $26 million for the MENA exception, consistent with SBA's policy of not lowering any size standards, SBA proposes to maintain the current $47 million size standard for both exceptions.

The FPDS showed very few actions involving Contracts and Subcontracts for Engineering Services Awarded Under the National Energy Policy Act of 1992. However, section 3021 of the National Energy Policy Act of 1992 provides that for purposes of contracts and sub-contracts requiring engineering services, the applicable size standard shall be that established for military and aerospace equipment and military weapons (106 Stat. 2776; Pub. L. 102-486 (October 24, 1992)). Accordingly, SBA also proposes to retain the same $47 million receipts based size standard for the exception that applies to Contracts and Subcontracts for Engineering Services Awarded Under the National Energy Policy Act of 1992.

Definitions of Engineering Services Exceptions

Based on its review of PSCs designated under NAICS 541330, using FPDS/SAM information, SBA found imprecise use of PSCs by agencies in applying the MAEMW and MENA exceptions to engineering contracts. For example, agencies have applied certain PSCs (e.g., R425—Support-Professional: Engineering/Technical) that seem to pertain to general engineering services as opposed to specialized engineering services under those exceptions. SBA attributes this imprecision in PSC selection by agencies to the lack of definitions of these exceptions. Accordingly, based on reviews of pertinent SBA Office of Hearings of Appeal (OHA) NAICS code appeal cases, the NAICS 541330 industry definition, descriptions of PSCs, and descriptions of contracts that clearly pertain to the exceptions, SBA is proposing to include the following definitions for engineering services exceptions to its table of size standards in 13 CFR 121.201 as Footnotes 19 and seeking comment on whether the proposed definitions are appropriate.

19. NAICS code 541330—(a) “Engineering Services” means applying physical laws and principles of engineering in the design, development, and utilization of machines, materials, instruments, structures, processes, and systems. These may involve any of the following activities: provision of advice, preparation of feasibility studies, preparation of preliminary and final plans and designs, provision of technical services during the construction or installation phase, inspection and evaluation of engineering projects, and related services.

(b) Exception 1—Military Equipment, Aerospace Equipment, and Military Weapons:

This exception applies when agencies procure highly specialized engineering services that are specifically and directly related to military and aerospace platforms, systems, and technologies. This includes work on military equipment, such as tanks, armored vehicles, drones, missile systems, C4ISR systems, radar and sonar systems, and other tactical or ground-based technologies. It also includes aerospace systems, such as satellites, launch vehicles, spacecraft, navigation and propulsion systems, and defense-related aeronautical engineering. Additionally, the exception covers military weapons and weapon systems, including guns, torpedoes, ballistic missile defense, nuclear weapons systems, and emerging technologies like directed energy weapons (e.g., lasers). Associated specialized services, such as systems integration, sustainment engineering, testing and evaluation, tech refreshes, and modeling/simulation designed for military or aerospace purposes also qualify. This exception is not limited to military contracts; it can also apply to civilian agencies or commercial efforts that involve defense-related equipment or applications. However, it excludes standard civil and commercial engineering services (e.g., roads, bridges, utilities, and facilities), and non-defense aerospace projects.

(c) Exception 2—Contracts and Subcontracts for Engineering Services Awarded Under the National Energy Policy Act of 1992: This exception applies to contracts and subcontracts for engineering services, as defined in (a) above, awarded under the National Energy Policy Act of 1992 (NEPA). Section 3021 of NEPA provides that for purposes of contracts and sub-contracts requiring engineering services, the applicable size standard shall be that established for military and aerospace equipment and military weapons (106 Stat. 2776; Pub. L. 102-486 (October 24, 1992)).

(d) Exception 3—Marine Engineering and Naval Architecture under NAICS 541330: This exception applies when work involves highly specialized engineering services that are specifically and directly related to marine vessels and naval systems. Covered areas include ship and vessel design, such as Navy ships, submarines, Coast Guard cutters, commercial or military cargo vessels, and special-purpose vessels like icebreakers and autonomous ships. It also includes marine engineering, such as propulsion and steering systems, HVAC, electrical, fuel, ballast, and onboard fluid handling systems, as well as the integration of weapons systems and onboard system modeling. Naval architectural services, such as hull form development, hydrodynamic performance, buoyancy and stability analysis, weight distribution, seakeeping, and propulsion system design are also included. Also covered are support services, such as ship modification, modernization, damage control, survivability engineering, sea trials instrumentation, and assistance with regulatory certifications. Excluded from this exception are general civil marine structures (e.g., docks, piers, canals), environmental engineering not related to ships, and architectural services for shipyards or administrative buildings.

Exception to NAICS 611519: Job Corps Centers

The current size standard for Federal contracts for Job Corps Centers (“exception” to NAICS 611519, Other Technical and Trade Schools) is $47 million in average annual receipts. This size standard applies to Federal contracts that meet specific criteria. The criteria required of a Job Corps Center contract or SBA-recognized operator are detailed in Footnote 16 to SBA's table of size standards (13 CFR 121.201), which reads: “For classifying a Federal procurement, the purpose of the solicitation must be for the management and operation of a U.S. Department of Labor Job Corps Center. The activities involved include admissions activities, life skills training, educational activities, comprehensive career preparation activities, career development activities, career transition activities, as well as the management and support functions and services needed to operate and maintain the facility. For SBA assistance as a small business concern, other than for Federal Government procurements, a concern must be primarily engaged in providing the services to operate and maintain Federal Job Corps Centers.”

As noted previously, the data from the 2017 Economic Census special tabulation are limited to the 6-digit NAICS industry level and hence do not provide data to assess economic characteristics at the subindustry level. For example, the Economic Census data for NAICS 611519 are aggregates of both Other Technical and Trade Schools and the more specialized establishments under the Job Corps Centers (JCC) exception. Thus, the results based on the Economic Census data alone may not accurately reflect the characteristics of businesses providing specialized services included under the exception. The lack of relevant data at the subindustry level is a challenge to determining whether the size standard for the JCC exception should be revised or left unchanged.

To determine whether the Agency should propose revising the size standard for the JCC exception under NAICS 611519, SBA analyzed data from the U.S. Department of Labor (DOL) website which includes a list of Job Corps Centers and their respective operators (available at https://www.dol.gov/agencies/eta/jobcorps/contact). SBA found a total of 24 unique entities (including two government-owned entities and one joint venture) listed on the DOL website that support the operations of about 120 Job Corps Centers around the country. SBA evaluated the data from FPDS and SAM to obtain size information of those 21 non-governmental operators. Two governmental entities and a joint venture were excluded from the analysis. From FPDS, SBA first identified firms that have a principal NAICS code of 611519. SBA then identified Product and Service Codes (PSCs) that correspond to the JCC exception by filtering the data for contracts awarded to private firms providing job corps services. SBA identified five PSCs from this search, namely: M1CZ—Operation of Other Educational Buildings, U006—Education/Training—Vocational/Technical, M139—Operation of Govt Other Educational Buildings, U099—Education/Training—Other, and U009—Education/Training—General. Using this method, SBA identified 219 unique firms that had a principal NAICS code of 611519 (including the 21 non-governmental JCC operators found on the DOL website) and were active in Federal contracting involving the above identified PSCs. For fiscal years 2021-2023, the total annual average contract dollars obligated to all PSCs under NAICS 611519 was $1,476.3 million. The total annual average contract dollars obligated under the above five PSCs was $1,437.9 million, which represents 97.4 percent of the total dollars obligated to NAICS 611519 during fiscal years 2021-2023. Among the five PSCs, M1CZ, alone, accounted for 80.1 percent of total dollars obligated to all PSCs under NAICS 611519.

The results from SBA's analysis are presented in Table 12, Size Standards Supported by Each Factor for Job Corps Centers Exception to NAICS 611519 ($ Million), below. The results support decreasing the current size standard for the JCC exception to $36 million. However, for reasons discussed below in the “Justification for Not Decreasing Size Standards” section of this proposed rule, below, SBA proposes to retain the current $47 million receipts base size standard for the JCC exception and seeks comment, along with supporting information, on whether the SBA's proposal is appropriate or the Agency should adopt the calculated size standard of $36 million.

BILLING CODE 8026-09-P

BILLING CODE 8026-09-C

Evaluation of Size Standard for NAICS 491110, Postal Service

NAICS 491110 is one of a few industries that are not covered by both Economic Census and County Business Patterns Reports. Because of the lack of industry data to review the industry structure, SBA is proposing to leave the size standard for NAICS 491110 at the current level of $9 million in average annual revenue. However, one of the disparity ratios (Disparity Ratio—Method 1) supported a $14.5 million size standard. SBA invites comments on this proposal as well as suggestions, along with supporting information, if the $14.5 million or a different size standard would be more appropriate.

Evaluation of Size Standards for NAICS Subsector 525, Funds, Trusts and Other Financial Vehicles

NAICS Subsector 525 includes six 6-digit codes. Of those six, the 2017 Economic Census special tabulation includes data only for two NAICS codes within NAICS Subsector 525: NAICS 525910, Open-End Investment Funds, and NAICS 525990, Other Financial Vehicles, for which calculated receipts based size standards are, as shown in Table 5 (above), $36.5 million and $31.5 million, respectively. For NAICS 525120, Health and Welfare Funds, the Federal contracting factor (Disparity ratio—Method 1), supports a receipts based size standard of $47 million. All industries in that Subsector currently share the same $40 million receipts based size standard. In the previous reviews, SBA applied the results for NAICS 525910 and 525990, specifically the largest size standard between the two industries (i.e., $36.5 million), to all remaining industries within Subsector 525. However, doing so with the current results would mean decreases to size standards for all industries in that Subsector, which would run counter to SBA's proposed policy of not decreasing any size standards, even though the data suggests some size standards might be decreased. Thus, for SBA's reasons for not decreasing size standards as discussed elsewhere in this proposed rule, the Agency is proposing to maintain the size standards for those industries at their current $40 million level. SBA seeks comments on this proposal as well as suggestion on alternative data sources, if any, to evaluate size standards for those industries.

Evaluation of the Assets Based Size Standards

In 1984, SBA published a Federal Register notice allowing financial services that prime contractors procure from small minority owned and controlled financial institutions to qualify as subcontracts for purposes of meeting subcontracting goals and credits (49 FR 13091, April 2, 1984). Concurrently, SBA also published a proposed rule that a financial institution with total assets of not more than $100 million would be considered small (49 FR 13052, April 2, 1984). SBA adopted the $100 million in total assets as the size standard for financial institutions (49 FR 49398, October 16, 1984). Over time, the definition of small depository institutions was extended to all financial institutions within NAICS Industry Group 5221, Depository Credit Intermediation. Since then, along with other monetary based size standards, SBA periodically adjusted the assets based size standard for inflation, reaching $175 million with the 2008 inflation adjustment (73 FR 41237, July 18, 2008). As part of the first five-year review of size standards under the Jobs Act, in 2013, SBA increased the financial institutions' size standard to $500 million in assets (78 FR 37409, June 20, 2013), which was subsequently increased to $550 million as part of the 2014 adjustment for inflation (79 FR 33647, June 12, 2014). It was further increased to $600 million with inflation adjustment in 2019 (84 FR 34261, July 18, 2019), to $750 million as part of the second five-year review of size standards under the Jobs Act (87 FR 18627, March 31, 2022), and finally to $850 million with the latest inflation adjustment in 2022 (87 FR 69118, November 17, 2022).

Currently, the $850 million assets based size standard applies to three industries within NAICS Industry Group 5221 (Depository Credit Intermediation) and one industry within NAICS Industry Group 5222 (Nondepository Credit Intermediation). These include NAICS 522110 (Commercial Banking), NAICS 522130 (Credit Unions), NAICS 522180 (Savings Institutions and Other Depository Credit Intermediation), and NAICS 522210 (Credit Card Issuing).

Because only a small number of industries have assets based size standards, no 20th percentile and 80th percentile values of industry factors could be developed to assess differing characteristics of individual industries based on total assets. Thus, most of the SBA's current size standards methodology is not applicable to analyzing the assets based size standards for financial institutions. Consequently, in this proposed rule, SBA examined the changes since 2018 (the latest year for which the financial institution data were available when the assets based size standard was reviewed as part of the second five-year review of size standards under the Jobs Act) in financial industry factors and small business assets shares to assess whether the current $850 million assets based size standard is adequate or should it be modified to reflect today's financial industry structure. Specifically, for industry factors, SBA evaluated changes from 2018 to 2023 (the latest year for which the financial institution data are available) in average firm size, industry concentration, and distribution of firms by size (i.e., Gini coefficient) for financial institutions. SBA also examined the changes in shares of total assets held by small businesses between 2018 and 2023. As in the first and second five-year reviews of size standards under the Jobs Act, in this proposed rule as part of the current third five-year review of size standards, SBA both evaluated all depository institutions as a whole and the minority owned and controlled depository institutions separately.

Depository Institutions

SBA evaluated all depository institutions using the Statistics on Depository Institutions (SDI) data from the Federal Deposit Insurance Corporation (FDIC). The SDI data does not provide the NAICS definition for every firm included in the database. However, it has a field called Asset Concentration Hierarchy, which can be used to identify each institution's primary specialization in terms of asset concentration, such as credit card services. Another field, Bank Charter Class, identifies the institutions as banks or thrifts. SDI does not include data on Credit Unions (NAICS 522130). Because the data are not separated by NAICS code, and the differences among services offered by different financial institutions (such as commercial banks, saving institutions, and credit card issuing companies) have greatly diminished over the recent decades, SBA has analyzed these financial institutions as one industry group.

The number of all depository institutions, total assets and calculated industry factors for 2018 and 2023 are shown on Table 13, Calculated Industry Factors for Depository Institutions. All data were collected at the end of the corresponding calendar year. For comparability, all monetary values are expressed in 2023 dollars, using the Bureau of Economic Analysis (BEA) GDP price index.

During the 2018 to 2023 period, as shown on Table 13, the financial industry continued to show a decrease in the total number of depository institutions. The total number of depository institutions decreased by 15.1 percent from 5,415 in 2018 to 4,596 in 2023, while their average firm size (measured in total assets in 2023 dollars) increased by 10.2 percent. The simple average firm size increased by a factor of about 1.3, while the weighted average firm size increased by a factor of about 1.2. On the other hand, the four largest institutions' share of total assets (also referred to as four-firm concentration ratio or CR4) decreased slightly (from 39.4% to 39.3%), and the Gini coefficient value decreased slightly from 0.818 in 2018 to 0.817 in 2023. Overall, the changes in values of these factors suggest a size standard of $840 million,¹⁰ a slight reduction from current size standard of $850 million for the depository institutions. On the other hand, the share of small businesses in 2018 under the size standard of $750 million was 78.1 percent in terms of the number of institutions, and of 4.8 percent in terms of their assets; while for 2023, the respective shares under the current size standard of $850 million were 74.5 percent and 4.1 percent. To increase the 2023 share of small businesses assets to the same level of 2018, the size standard should be increased to about $1 billion in assets. Averaging both results, one based on industry factors and the other based on the small business assets shares, the suggested size standard would be about $920 million for the Depository Institutions.

¹⁰ Getting the average of percentage changes for each of the four factors (i.e., simple average, weighted average, CR4 and Gini coefficient) between 2018 and 2023 in Table 13 and applying it to the $750 million size standard, we reached the value of $840 million. The financial industry data for 2018 supported a size standard of $750 million that SBA adopted as part of the second five-year review of size standard in April 2022 (87 FR 18627, March 31, 2022) which was increased to $850 million by inflation adjustment in December 2022 (87 FR 69118, November 17, 2022).

NAICS 522130, Credit Unions

A credit union is a cooperative, not-for-profit financial institution owned and controlled by its members. Credit unions are established and operated for the purpose of promoting thrift and providing credit at competitive rates and other financial services to their membership. Generally, they could be corporate credit unions, Federal, or State credit unions. Because this industry includes only not-for-profit institutions, SBA does not consider them small business concerns for Federal government assistance. The small business regulations state that a business concern eligible for assistance from SBA as a small business is a business entity organized for profit, with a place of business located in the United States (see 13 CFR 121.05(a)(1)). However, SBA has established a size standard for this industry because it is useful for other purposes, such as rulemaking. Table 15, Calculated Industry Factors for Credit Unions, below, provides the calculated factors for Credit Unions. Between 2018 and 2023, the total number of concerns diminished by 14.4 percent, but at the same time the total assets increased by 29.5 percent. The simple average increased by 51.2 percent between 2018 and 2023 in real terms, and the weighted average grew by 54.3 percent. The four-firm concentration ratio increased by a factor of 1.04. Gini coefficient did not change much during the period. Changes in these factors would support an increase of size standard for Credit Unions from $850 million to $960 million in assets.¹¹ Moreover, in 2018 the share of total Credit Unions assets held by small businesses under the $750 million size standard (which SBA adopted as part of the second five-year review of size standards) were 26.4 percent, and that in 2023 this ratio diminished to 21.3 percent under the current $850 million size standard. In order to increase this ratio to the 2018 level, the size standard would need to be increased to about $940 million. Averaging both results, one based on industry factors and the other based on the small business assets shares, the suggested size standard for Credit Unions would be about $950 million.

¹¹ Getting the average of percentage changes for each factor (i.e., simple average, weighted average. CR4, and Gini Coefficient between 2018 and 2023 from Table 15 and applying it to the inflation preadjusted size standard (i.e. $750 million), we reached the value of $960 million. The financial industry data for 2018 supported a size standard of $750 million, which was increased to $850 million by inflation adjustment in December 2022.

Federal Contracting Factor

For the four assets based industries listed above, Federal contracting dollars averaged about $164 million per year during fiscal years 2021-2023. This reflects a large increase in dollars awarded to those industries as compared to fiscal years 2016-2018, when the average total dollars obligated to them was about $130 million. Of those four industries, NAICS 522110, Commercial Banking, accounts for 99.0 percent of the average total dollars obligated during fiscal years 2021-2023. Thus, under the SBA's Revised Methodology, Federal contracting is a significant factor for reviewing the assets based size standard for the financial industries. The data yields the disparity ratios of 0.23 under Method 1 and 17.78 under Method 2. The disparity ratio under Method 1 would support a size standard of $1,063 million (i.e., increasing the current $850 million size standard by 25% as per Table 3 (above)) and disparity ratio under Method 2 would support the current $850 million. The average of the two values equals to $956 million, which is the size standard supported by Federal contracting factor.

Summary of Calculated Size Standards for Depository Institutions and Credit Unions

Based on the analyses of industry factors and differences of the shares of small businesses in total assets between 2018 and 2023, the calculated size standard for depository institutions is $918 million in assets, which would apply to the following three industries within NAICS Subsector 522, Credit Intermediation and Related Activities: NAICS 522110 (Commercial Banking), NAICS 522180 (Savings Institutions and Other depository Credit Intermediation), and NAICS 522210 (Credit Card Issuing). Based on the similar results, the calculated size standard for NAICS 522130 (Credit Unions) is $948 million in assets. The weighted average of the calculated size standards for depository institutions and credit unions is $921 million. These results are shown in Table 15, Summary of Calculated Size Standards for Depository Institutions and Credit Unions, below.

As discussed above, Federal contracting factor (i.e., disparity ratio analysis) supports a size standard of $956 million and industry factors support a size standard of $921 million. In calculating the overall industry size standard, the SBA's methodology assigns a weight of 0.8 to four industry factors combined and a weight of 0.20 to the Federal contracting factor. The weighted average of the two calculated size standards using these weights gives an overall size standard of $928 million (i.e., (0.8 * 921) + (0.2 * 956) = 928), which is rounded to $925 million.

Accordingly, consistent with its historical practice of maintaining the same size standard for all financial industries, SBA is proposing to increase the size standard for all four financial industries from the current $850 million to $925 million in assets. If adopted, the proposed size standard would apply to the following industries: NAICS 522110 (Commercial Banking), NAICS 522180 (Savings Institutions and Other depository Credit Intermediation), NAICS 522210 (Credit Card Issuing), and NAICS 522130 (Credit Unions). SBA is seeking comment on whether SBA should consider establishing separate size standards for each of the four industries or continue using a common size standard.

Summary of Calculated Size Standards

Of 500 industries and thirteen (13) subindustries (“exceptions”) reviewed in this proposed rule, the results from analyses of the latest available data on the five primary factors from Table 5 (above), along with similar results for various exceptions and assets based size standards in subsequent tables, would support increasing size standards for 263 industries (259 receipts based and four assets based) and decreasing size standards for 203 industries and nine (9) subindustries or exceptions. The results supported retaining current size standards for 38 receipts-based industries. Table 16, Summary of Calculated Size Standards, summarizes these results by NAICS sector.

Evaluation of SBA Loan Data

Before proposing or deciding on an industry's size standard revision, SBA also considers the impact of size standards revisions on SBA's loan programs. Accordingly, SBA examined its internal 7(a) and 504 loan data for fiscal years 2021-2023 to assess whether the calculated size standards in Table 5 (above) need further adjustments to ensure credit opportunities for small businesses through those programs. For the industries reviewed in this rule, the data shows that it is mostly businesses much smaller than the current or proposed size standards that receive SBA's 7(a) and 504 loans. For example, for industries covered by this rule, 98.0 percent of 7(a) and 504 loans in fiscal years 2021-2023 went to businesses at or below the current or calculated size standards. The data suggests that no calculated size standards need further adjustments based on evaluation of the loan data.

Justification for Not Decreasing Size Standards

Decreasing size standards would cause many businesses that are small under the current size standards, especially those that are larger, more experienced and capable small businesses just below the current size standards, to lose their small business status and eligibility for Federal small business assistance. SBA believes that decreasing size standards under the current economic environment could stifle the ongoing economic growth following the COVID-19 pandemic by causing many currently qualified and capable small firms to become ineligible for SBA's financial assistance and Federal contracting programs. SBA is meeting the continued need for increased SBA's support for small businesses to support ongoing economic growth and job creation by not decreasing size standards, even though analytical results suggest that some size standards might be decreased.

As discussed below in greater detail, reducing the number of small businesses may lead to fewer set-aside opportunities for small businesses overall as it would reduce the pool of eligible qualified firms that the Federal Government could select from when setting aside procurements for small businesses. SBA believes that decreasing size standards would run counter to its mission to aid, counsel, assist and protect the interests of small business concerns, preserve free competitive enterprise, and maintain and strengthen the overall economy of our Nation. For these and other reasons, discussed below in a greater detail, SBA believes that it has the discretion to propose a policy of not decreasing any size standards because the only Congressionally mandated requirement is that SBA exclude dominant firms from qualifying small, even though the data suggests some size standards might be decreased.

As discussed below, decreasing small business size standards, which would lower the threshold for what qualifies as a small business, could have negative impacts on many aspects of the economy, including Government contracting, subcontracting and supply chains, access to capital, competition and industry consolidation, innovation and entrepreneurship, job creation, economic growth, defense industrial base and national security, and small business industrial base.

Government Contracting: Decreasing small business size standards can have a significant impact on Government contracting, particularly in terms of access, competition, contract fulfillment, and the Federal Government's ability to meet its Congressionally mandated small business procurement goals. Businesses that no longer qualify as small may lose preference and access to Federal set-aside contracts, thereby forcing them to compete with large companies with significantly more resources and extensive qualifications for contracting opportunities. Businesses that would lose small business status, were the size standards reduced according to analytical results, based on the procurement data for fiscal years 2021-2023, would lose more than $2 billion annually in Federal contracts for small businesses. Larger small companies that lose access to small business set-aside contracts and will be forced to compete with large corporations may face difficulties securing Government contracts under full and open competition. This can reduce their revenue streams from Government contracts and limit their ability to grow and create jobs, with potentially far-reaching implications in the broader economy. The exclusion of larger small firms from the small business category may reduce the overall pool of companies available to compete for Federal contracts, thereby limiting the number of qualified suppliers in some industries, particularly those that are highly dependent on Government contracts, such as defense, construction, and IT services. This could lead to fewer competitive bids, especially for contracts requiring specialized skills or capabilities that smaller small businesses may not possess, potentially driving up costs to consumers and Government agencies, especially in industries where larger small businesses are key players. Losing small business status and associated advantage could make it harder for these firms to participate in large projects, especially in industries like construction, technology, and defense. As stated previously, larger small businesses that lose their small business status will no longer qualify for certain set-aside contracts, which may lead to a shift in contract awards from these firms to smaller small businesses. However, smaller small businesses may lack the necessary resources, qualifications, or capacity to handle larger or more complex Government projects. If too many larger small firms lose access to small business set-asides, the pool of contractors capable of fulfilling high-value or technically demanding contracts may shrink, potentially leading to delays or lower-quality work in certain sectors, such as defense, construction, and IT, where performance and scale are critical. With fewer businesses qualifying as small, the Government may have to work harder to find qualified contractors capable of fulfilling certain requirements. This could complicate the process of meeting Government's small business procurement goals, particularly for larger or more complex projects.

Subcontracting and Supply Chains: Businesses that lose their small business status may struggle to secure subcontracting work from large companies, as prime contractors may prefer to work with businesses that still qualify as small to meet their small business subcontracting goals. This could reduce the number of viable small business subcontractors for large Government contracts, potentially affecting the overall supply chain and project execution. With fewer businesses qualifying as small, large prime contractors will face difficulties meeting their small business subcontracting goals.

Access to Capital and Other Benefits: Businesses that lose their small business status could face difficulties accessing capital through SBA-backed loans and benefits from other support programs, potentially slowing their growth. They may struggle to secure favorable loans and financing options, especially if they have relied on SBA-backed loan programs in the past. Without SBA loans, or loan guarantees, they might struggle to invest in growth, equipment, technology, or workforce development. This could result in a slowdown in expansion and economic activity for these businesses. As firms that lose their small business status may no longer be eligible for SBA-backed loans or other forms of small business financing, these firms might be forced to turn to more expensive financing options. Businesses losing small business status would also lose other benefits such as lower taxes and exemptions from certain compliance and paperwork requirements.

Competition and Industry Consolidation: Businesses that lose their small business status may now be forced to compete directly against larger corporations for unrestricted Government contracts, which could put them at a significant competitive disadvantage. Some of these companies will struggle to survive or even be forced to merge with larger corporations or exit the market altogether, contributing to increased industry consolidation and reduced competition and market diversity. The loss of small business status for many small businesses could lead to increased mergers and acquisitions as these businesses seek ways to survive and remain competitive. This could result in reduction in the number of independent businesses in key sectors of the economy, such as manufacturing, construction and IT, leading to less innovation, greater industry consolidation, reducing diversity and consumer choices in the marketplace, and potentially leading to monopolistic practices in some sectors dominated by large players. This would run counter to Executive Order 14267 (90 FR 15629, April 9, 2025), which directs Federal agencies to reduce anticompetitive regulatory Barriers.

Job Creation and Employment: Small businesses are significant job creators, accounting for two-thirds of total new job creation in the U.S. and nearly half of the private sector workforce. Larger small businesses that lose their small business status might be forced to reduce hiring, downsize, or even lay off employees as they lose access to revenue streams from Government contracts and SBA's loans that helped them start and expand. Larger small firms could become less willing to hire from smaller subcontractors, reducing opportunities for growth and employment. Job losses could occur in industries where small businesses are a significant part of the overall labor market. As stated earlier, decreasing size standards for 213 industries/subindustries, solely based on analytical results, would force about 7,900 businesses to lose their small business designation in industries covered by this proposed rule. These businesses are estimated to support about 604,850 employees, which would be at risk of being laid off if they lose their small business status and associated benefits, in particular access to Government contracts and SBA financial assistance intended for small businesses.

Economic Growth: According to SBA's Office of Advocacy, small businesses contribute approximately 44 percent of the U.S. gross domestic product (GDP). Companies on the higher end of the size spectrum, which might lose their small business status because of decreases to size standards, could face financial challenges, stalling their growth and possibly impacting broader economic activity. Businesses that lose their small business status may struggle to compete with large corporations with significantly more resources and capabilities and could face slower growth, stagnation, or even downsizing. This may particularly affect firms in industries, such as manufacturing, construction, and IT, where larger small firms often play a crucial role. If small businesses are forced to downsize or shut down due to the loss of small business status, it could negatively affect local economies that rely on these companies for jobs, taxes, and local commerce. In regions where small businesses are a major source of employment, this could lead to higher unemployment, economic stagnation or decline. If a significant number of small businesses lose access to Government contracts, capital, and other resources intended for small businesses, it could result in slower growth, fewer investments, and reduced job creation. These firms often serve as critical growth engines in the economy, and their struggle to adapt could have a ripple effect on sectors that rely on a healthy and competitive small business ecosystem.

Innovation and Entrepreneurship: Larger small businesses which often have the resources to invest in research and development (R&D) may lose their small business status and access to Government contracts and SBA programs. This will slow growth of these companies and the Government will miss out on cutting-edge technologies and approaches that these firms can provide. This could result in a reduction of their R&D investments and innovation efforts, limiting innovation in key economic sectors, including technology, and engineering, and other high-growth industries. This could stifle competition in high-tech industries where mid-sized and larger small firms are often the most innovative. This could lead to a slowdown in innovation, potentially weakening the overall competitiveness of the economy.

Defense Industrial Base and National Security: According to the Department of Defense (DoD), small businesses make up 73 percent companies in the U.S. defense industrial base (https://www.defense.gov/News/Releases/Release/Article/3279279/). In 2024, small business vendors accounted for 79 percent of total DoD vendor count. In 2023, small businesses accounted for 25.2 percent of all DoD prime contracts, amounting to $92 billion. The DoD's total small business vendor count decreased 49 percent between 2010 and 2024. A reduction in SBA size standards would disqualify firms that currently qualify as small for DoD contracts, thereby shrinking the pool of eligible and qualified defense contractors and exacerbating the ongoing contraction of the DoD small business vendor base. This could lead to fewer options for DoD, especially for contracts that require specialized skills and capabilities offered by larger and more qualified small firms. Larger small businesses that lose their small business status may no longer be viable defense suppliers and may not be able to compete against much larger defense contractors with significantly more resources and extensive qualifications and experiences. This could limit the number of companies that can deliver on certain high-value or specialized contracts, especially in areas like defense technology, manufacturing, and cybersecurity. This could weaken the defense supply chain, as fewer firms would be able to meet the stringent requirements of the DoD, especially for specialized or high-tech products and services. As stated earlier, many larger small firms that invest heavily in R&D would lose access to defense contracts, thereby reducing overall investment in defense-related R&D, stifling innovation in critical areas such as advanced weapons systems, communications, and logistics. If larger small businesses lose their small business status, the defense industrial base could lose a segment of highly capable, strategically important firms. This could limit the DoD's access to critical technologies and reduce the overall competitiveness of U.S. defense capabilities. Decreasing size standards might reduce the number of capable defense suppliers, as larger small businesses lose their status and may be unable to compete with large prime contractors, thereby reducing competition, increasing costs, and reducing innovation. Companies that lose small business status might be forced to reduce their workforce, consolidate, or even close. This could result in job losses, particularly in industries and regions where the defense sector plays a significant role in the local economy. Firms that lose small business status may struggle to secure subcontracts from large prime contractors. This could impact the lower tiers of the defense supply chain, where specialized larger small firms are often critical subcontractors for large defense projects. Reducing the number of eligible contractors by lowering size standards could lead to a consolidation of the industrial base, concentrating power in the hands of a few large firms and reducing the flexibility, resilience, and diversity that are critical to long-term health of the defense industrial base.

Small Business Industrial Base: Decreasing small business size standards can have wide-ranging impacts on the small business industrial base, which includes the businesses that support Government projects and health of various key industrial sectors, including professional services, manufacturing, and construction.

Total small business vendor count in the Federal market decreased 49 percent from 119,341 in 2010 to 60,952 in 2024. The share of small business in total vendor count decreased from 80% to 73% during the same period. Lowering small business size standards, thereby causing about 7,900 small businesses under the current size standards to lose their small business status, would exacerbate this trend when the Federal Government, through various initiatives and strategies (e.g., strengthening small business supply chains, workforce readiness, and simplified and flexible acquisition, etc.), is trying to reverse this worrisome trend and strengthen the Federal small business industrial base.

If size standards were decreased based on analytical results, many businesses may lose their small business status, meaning they will no longer be eligible for small business set-asides contracts, grants, and other SBA programs. Without small business status, they could also face difficulties in competing with large companies. The loss of small business status could reduce competitiveness of larger small businesses, especially when vying for contracts or business opportunities with large corporations. These firms may face increased pressure to merge or consolidate to survive, thereby reducing market competition. Loss of small business eligibility could hurt small business ability to stay competitive in the Federal marketplace. Certain industries, like manufacturing and construction, where economies of scale matter, could be negatively impacted. Larger small companies that lose small business status may find it hard to compete against larger, more established firms, leading to industry consolidation or potential closures in these sectors. Decreasing size standards may hurt the competitiveness of mid-sized firms that are still growing but are no longer eligible for small business benefits. These businesses may not yet be large enough to compete with major corporations, which could lead to stagnation or a slowing of their growth.

Evaluation of Calculated Size Standards for Dominance in Field of Operation

As part of the review, SBA further evaluates calculated size standards to ensure that dominant or potentially dominant firms are excluded from qualifying as small. For this, as stated earlier, SBA examines the industry's market share of firms at the calculated size standard as well as the distribution of firms by size. SBA generally considers such market share of more than 40 percent as suggesting that a firm qualifying as small could be dominant in its industry. Among the industries with monetary based size standards reviewed in this proposed rule, the firm's market shares at the calculated and current size standards exceed 40 percent for two industries, namely NAICS 485111 (Mixed Mode Transit Systems) and 812922 (One-Hour Photofinishing). For NAICS 485111, both the current and calculated size standard is $29 million, with the firm's market share at that level being equal to 42.6 percent. To reduce that share to below the 40 percent threshold, the size standard for NAICS 485111 should be lowered to $27 million. For NAICS 812922, the firm's market share at the $19 million current standard is 67.8 percent and at the $12.5 million calculated size standard is 44.6 percent. To lower that share to below 40%, the size standard should be decreased to $11 million. However, the evaluation of distributions of firms by size using the Economic Census and SAM data shows no firms between $27 million and $29 million for NAICS 485111and between $11 million and $19 million for NAICS 812922 to exert the dominance in both industries. Accordingly, SBA proposes to retain the current size standards for both industries. For the remaining industries, the firm's market share at the calculated size standards averaged 0.8 percent, varying from a minimum of 0.004 percent to a maximum of 21.6 percent. These levels of market shares preclude any businesses qualifying as small under the calculated size standards from exerting dominance in their industries.

Proposed Size Standards Changes

Based on the analytical results in Table 5 (above) and considering impacts of calculated size standards in terms of access by currently small businesses to SBA's loans, results from dominant analysis of calculated size standards, and SBA's proposed policy of not decreasing any size standards (except for excluding dominant firms from qualifying as small) even if the analytical results support decreasing some size standards, of a total of 513 monetary based size standards (including nine “exceptions”) that are reviewed in this proposed rule, SBA proposes to increase 263 size standards, retain 249, and remove one exception. Proposed changes to size standards for each NAICS industry are presented in Table 17, Proposed Size Standards Changes by Industry. Also shown in Table 17 are current and calculated size standards.

BILLING CODE 8026-09-P

BILLING CODE 8026-09-C

Evaluation of Proposed Size Standards for Dominance in Field of Operation

SBA has determined that for the industries which it has evaluated in this proposed rule, no individual firm at or below the proposed size standard would be large enough to dominate its field of operation. At the proposed size standards levels, if adopted, the small business share of total industry receipts among those industries (excluding NAICS 485111 and 812922 discussed earlier) would be, on average, 0.7 percent, varying from 0.004 percent to 21.6 percent. These market shares effectively preclude a firm at or below the proposed size standards from exerting control on any of the industries.

Alternatives Considered

By law, SBA is required to develop numerical size standards for establishing eligibility for Federal small business assistance programs and to review every five years all size standards and make necessary adjustments to reflect the current industry structure and Federal market conditions. Other than varying the levels of size standards by industry and changing the measures of size standards (e.g., using annual receipts vs. the number of employees ¹²), no practical alternatives exist to the systems of numerical size standards.

¹² This option is also quite limited because the law requires that the size of manufacturing firms be measured in terms of the number of employees and the size of services firms be measured in terms of the average annual revenue.

SBA is proposing to increase size standards where the data suggested increases are warranted, and to retain, for reasons discussed above, all current size standards at their current levels where the data suggested lowering or no change might be appropriate.

Nonetheless, as in the previous review of size standards under the Jobs Act, SBA considered two other alternatives. Alternative option one was to propose changes exactly as suggested by the analytical results. Alternative option two was to retain all current size standards.

By adopting the results as they are, alternative option one would cause about 7,900 currently small businesses to lose their small business status and hence to lose their access to Federal small business assistance, especially small business set-aside contracts and SBA's financial assistance in some cases. SBA provides a more detailed analysis of impacts of this alternative under the regulatory impact analysis section below.

Under alternative option two, SBA considered maintaining a status quo, i.e., retaining all size standards at their current levels even though the latest available data may suggest changing them. This would prevent businesses from receiving benefits of increases to size standards for numerous industries for which the latest data warrant increases to their size standards. Doing nothing or maintaining the status quo would also run counter to the statutory mandate that SBA review all size standards every five years and make necessary adjustments to reflect current market conditions.

Request for Comments

SBA invites public comments on this proposed rule, especially on the following issues:

1. SBA seeks feedback on whether SBA's proposal to increase 263 monetary based size standards (259 receipts based and 4 assets based), retain 249, and eliminate one receipts based size standard is appropriate given the results from the latest available industry and Federal contracting data of each industry and subindustry (“exception”) reviewed in this proposed rule. SBA seeks suggestions, along with supporting facts and analysis, for alternative size standards for certain industries or a group of industries, if they would be more appropriate than the proposed size standards.

2. SBA seeks comments on its proposed policy of not lowering any standards even though analytical results suggest some size standards could be lowered, except for excluding dominant firms from qualifying as small. SBA believes that lowering size standards would run counter to SBA's mission to aid, counsel, assist and protect small businesses, to preserve free competitive enterprise, and to maintain and strengthen the nation's economy.

3. In calculating the overall industry size standard, SBA has assigned equal weight to each of the five primary factors in all industries and subindustries covered by this proposed rule. SBA seeks feedback on whether it should assign equal weight to each factor or on whether it should give more weight to one or more factors for certain industries or a group of industries. Recommendations to weigh some factors differently than others should include suggested weights for each factor along with supporting facts and analysis.

4. SBA seeks suggestions on data sources it used to evaluate size standards for the Forest Fire Suppression and Fuel Management Services subindustries (“exceptions”) within NAICS 115310 and comments on its proposal to retain the current $34 million size standard for both exceptions even if the analysis supported decreasing it to $20 million. SBA is also interested in comments on the possible elimination of the Forest Fire Suppression and Fuel Management Services as “exceptions” to NAICS 115310, and the application of the same general size standard for NAICS 115310. Comments on applying the same NAICS 115310 size standard for Forest Fire Suppression and Fuel management Services exceptions should address why the same size standard is more suitable than separate size standards for Forest Fire Suppression and Fuel management Services or why firms engaged in Forest Fire Suppression and Fuel Management Services should continue to be treated as separate activities from the rest of NAICS 115310 for SBA's size standards purposes.

5. SBA seeks suggestions or comments on data it used to evaluate the size standard for the Dredging and Surface Cleanup Activities (Dredging), a subindustry (“exception”) category within NAICS code 237990 and its proposal to retain the current $37 million size standard, even though the data supported a lower $21.5 million size standard. SBA is also interested in comments on eliminating the subindustry category for Dredging and applying the same $45 million size standard that currently applies to the overall NAICS 237990 industry. Comments on applying the same NAICS 237990 size standard for Dredging should address the basis for why that industry size standard is more suitable than a specific Dredging subindustry size standard or why dredging firms should continue to be evaluated as a discrete subindustry for SBA's size standards purposes.

Additionally, SBA seeks comments on its proposal to retain Footnote 2 in 13 CFR 121.201, which provides that “to be considered small for purposes of Government procurement, a firm or its similarly situated subcontractors must perform at least 40 percent of the volume dredged with their own equipment or equipment owned by another small dredging concern.” Comments pertaining to this requirement should address on: (1) whether there continues to be a need to retain the current 40 percent equipment requirement under current industry practices; (2) whether the 40 percent equipment requirement should be revised, and if so, the rationale for an alternative percentage; and (3) whether a different and more verifiable requirement based on an alternative measure (such as value of contract or personnel involved) may achieve the same objective of ensuring that small businesses perform significant and meaningful work on dredging contracts set aside for small businesses.

6. SBA seeks comment on its proposal to eliminate Non-Vessel Owning Common Carriers and Household Good Forwarders (NVOCCHGF) as a subindustry or “exception” category from NAICS 488510, Freight Transportation Arrangement. Considering similarities in economic characteristics between the NVOCCHGF exception and the overall NAICS 488510 industry, absence of uniquely identifiable PSCs corresponding to the exception, and a lack of industry data to adequately evaluate the exception industry, SBA is proposing to eliminate the NVOCCHGF exception to NAICS 488510. Furthermore, considering very low utilization of small businesses in Federal contracting under the current size standard under NAICS 488510, SBA also seeks comment on its proposal to apply to the general NAICS 488510 industry a higher $34 million size standard that currently applies to the NVOCCHGF exception.

7. Because of the lack of data to review the industry structure, SBA is proposing to leave the size standard for Postal Service (NAICS 491110) at the current level of $9 million in average annual revenue. SBA invites comments on this proposal as well as suggestions, along with supporting information, if a different size standard would be more appropriate. SBA seeks comment if it should adopt a higher $14.5 million size standard suggested by one of the two disparity ratios.

8. The 2017 Economic Census special tabulation includes data only for two NAICS codes within NAICS Subsector 525: NAICS 525910, Open-End Investment Funds, and NAICS 525990, Other Financial Vehicles. Calculated receipts based size standards for those industries are, as shown in Table 5 (above), $36.5 million and $31.5 million, respectively. Because all industries in that Subsector 525 currently share the same $40 million size standard, SBA applied the results based on data for NAICS 525910 and 525990 to all remaining industries within this Subsector. However, doing so would mean decreasing size standards for all industries in that Subsector. Consistent with SBA's proposed policy of not lowering any size standards, the Agency is proposing to maintain the size standards for those industries at their current $40 million level. SBA seeks comments or suggestions along with supporting information on the following:

a. Whether SBA should adopt a common size standard for all industries in Subsector 525 or adopt a separate size standard for each industry, and

b. Whether a lower common size standard would be more appropriate for those industries and, if so, what that size standard should be.

9. SBA proposes to increase the size standard for three industries within NAICS Industry Group 5221, Depository Credit Intermediation (i.e., NAICS 522110, 522130, and 522180) and on industry in NAICS 5222, Nondepository Credit Intermediation (i.e., NAICS 522210) from $850 million to $925 million in assets. SBA also proposes to maintain the common size standard for the four industries even though the data supported a higher standard for NAICS 522130 (Credit Unions). SBA invites comments or suggestions, along with supporting information, with respect to whether the Agency should adopt the common size standard for those industries or establish a separate size standard for each industry.

10. SBA proposes to retain Marine Engineering and Naval Architecture as one of separate subindustry categories (“exceptions”) to NAICS 541330 (Engineering Services) with the current $47 million size standard, even though the data supported a lower $26 million calculated size standard, as compared to a $29 million calculated/proposed size standard for overall NAICS 541330. Considering these results, SBA seeks comment on whether Marine Engineering and Naval Architecture should be eliminated as an exception to NAICS 541330 and subject to the same $29 million proposed size standard applicable for the overall industry or it should be retained as an exception with a $47 million size standard as proposed.

11. In this rule, SBA proposes detailed definitions for the three exceptions under NAICS 541330 (Engineering Services) as Footnote 19 to the SBA table of size standards and seeks comments on whether the proposed definitions are appropriate. SBA invites suggested changes if the proposed definitions are not appropriate.

12. Finally, SBA seeks comments on data sources it used to examine industry and Federal market conditions, as well as suggestions on relevant alternative data sources that the Agency should evaluate in reviewing or modifying size standards for industries covered by this proposed rule.

Public comments on the above issues are very valuable to SBA for validating its proposed size standards revisions in this proposed rule. Commenters addressing size standards for a specific industry or a group of industries should include relevant data and/or other information supporting their comments. If comments relate to the application of size standards for Federal procurement programs, SBA suggests that commenters provide information on the size of contracts in their industries, the size of businesses that can undertake the contracts, start-up costs, equipment and other asset requirements, the amount of subcontracting, other direct and indirect costs associated with the contracts, the use of mandatory sources of supply for products and services, and the degree to which contractors can mark up those costs.

Compliance With Executive Orders 12866, 12988, 13132, 13563 and 14192, the Initial Regulatory Flexibility Act (5 U.S.C. 601-612), and the Paperwork Reduction Act (44 U.S.C. Ch. 35)

Executive Order 12866

The Office of Management and Budget (OMB) has determined that this proposed rule is not a “significant regulatory action” for purposes of Executive Order 12866. However, in the next section, SBA provides a Cost Benefit Analysis of this proposed rule, including: (1) a statement of the need for the proposed action, (2) an examination of alternative approaches, and (3) an evaluation of the benefits and costs—both quantitative and qualitative—of the proposed action and the alternatives considered.

Cost Benefit Analysis

1. What is the need for this regulatory action?

Under the Small Business Act (Act) (15 U.S.C. 632(a)), SBA's Administrator is responsible for establishing small business size definitions (or “size standards”) and ensuring that such definitions vary from industry to industry to reflect differences among various industries. The Jobs Act requires SBA to review every five years all size standards and make necessary adjustments to reflect current industry and Federal market conditions. This proposed rule is part of the third five-year review of size standards in accordance with the Jobs Act. The first five-year review of size standards was completed in early 2016 and the second five-year review in early 2023. Such periodic reviews of size standards provide SBA with an opportunity to incorporate ongoing changes to industry structure and Federal market environment into size standards and to evaluate the impacts of prior revisions to size standards on small businesses. This also provides SBA with an opportunity to seek and incorporate public input to the size standards review and analysis. SBA believes that proposed size standards revisions for industries being reviewed in this rule will make size standards more reflective of the current economic characteristics of businesses in those industries and the latest trends in Federal marketplace.

SBA's mission is to aid and assist small businesses through a variety of financial, procurement, business development and counseling, and disaster assistance programs. To determine the actual intended beneficiaries of these programs, SBA establishes numerical size standards by industry to identify businesses that are deemed small.

The proposed revisions to the existing monetary based size standards for 263 industries in various NAICS Sectors are consistent with SBA's statutory mandates to help small businesses grow and create jobs and to review and adjust size standards every five years. This regulatory action promotes the Administration's goals and objectives as well as meets the SBA's statutory responsibility. One of SBA's goals in support of promoting the Administration's objectives is to help small businesses succeed through fair and equitable access to capital and credit, Federal Government contracts and purchases, and management and technical assistance. Reviewing and modifying size standards, when appropriate, ensures that intended beneficiaries can access Federal small business programs that are designed to assist them to become competitive and create jobs.

2. What are the potential benefits and costs of this regulatory action?

Pursuant to Circular A-4 (September 17, 2003), OMB directs agencies to establish an appropriate baseline to evaluate any benefits, costs, or transfer impacts of regulatory actions and alternative approaches considered. The baseline should represent the agency's best assessment of what the world would look like absent the regulatory action. For a new regulatory action promulgating modifications to an existing regulation (such as modifying the existing size standards), a baseline assuming no change to the regulation (i.e., making no changes to current size standards) generally provides an appropriate benchmark for evaluating benefits, costs, or transfer impacts of proposed regulatory changes and their alternatives.

Proposed Changes to Size Standards

Based on the results from analyses of latest industry and Federal contracting data and consideration of SBA's proposed policy of not lowering any size standards (except for excluding dominant firms from qualifying as small) even though the data support decreases to some size standards, of a total of 513 industries/subindustries with monetary based size standards (receipts and assets) that are reviewed in this proposed rule, SBA proposes to increase size standards for 263 industries (259 receipts based and 4 assets based), and maintain current size standards for remaining 250 industries/subindustries.

The Baseline

For purposes of this regulatory action, the baseline represents maintaining the “status quo,” i.e., making no changes to the current size standards. Using the number of small businesses and levels of benefits (such as set aside contracts, SBA's loans, disaster assistance, etc.) they receive under the current size standards as a baseline, one can examine the potential benefits, costs and transfer impacts of proposed changes to size standards on small businesses and on the overall economy.

Based on the 2017 Economic and Agricultural Census (the latest available), of a total of about 7.5 million businesses in industries reviewed in this proposed rule, 98.4 percent are considered small under the current size standards. Small businesses under current size standards account for 30 percent of total receipts and about 45 percent of total employment in those industries.¹³ Based on the data from FPDS for fiscal years 2021-2023, about 37,000 unique firms in those industries received at least one Federal contract during that period, of which 84.7 percent were small under the current size standards. A total of $285.2 billion in average annual contract dollars were awarded to businesses in those industries during the period of evaluation, and 32.6 percent of the dollars awarded went to small businesses. For industries/subindustries reviewed in this proposed rule, providing contract dollars to small businesses through set asides is quite important. From the total small business contract dollars awarded during the period considered, 70.4 percent were awarded through various small business set-aside programs and 29.6 percent were awarded through non-set-aside contracts. Based on the SBA's internal data on its loan programs for fiscal years 2021-2023, small businesses in those industries received, on an annual basis, a total of approximately 52,400 7(a), 504/CDC, and micro loans in that period, totaling about $28.7 billion in loan amount, of which 80.3 percent was issued through the 7(a) program, 19.5 percent was issued through the 504/CDC program, and 0.2 percent was issued through the micro loan program. During fiscal years 2021-2023, small businesses in those industries also received 5,150 loans through the SBA's Economic Injury Disaster Loan (EIDL) program, totaling about $223 million in loan amount on an annual basis. Table 19, Baseline for All Industries with Monetary Based Size Standards, provides these results.

¹³ These figures do not include industries that are out of scope of the Economic and Agricultural Census, subindustries (“exceptions”), and industries with assets based size standards. As stated elsewhere in this rule, because the industry data in the Economic and Agricultural Census are limited to the 6-digit industry level, no data is available at the subindustry level.

BILLING CODE 8026-09-P

BILLING CODE 8026-09-C

Increases to Size Standards

As stated above, of 513 monetary based size standards (including 13 exceptions) that are reviewed in this rule, based on the results from analyses of latest industry and Federal market data as well as impacts of size standards changes on small businesses, in this rule, SBA proposes to increase 263 size standards (259 receipts based and four assets based). Below are descriptions of the benefits, costs and transfer impacts of these proposed increases to size standards.

Benefits of Increases to Size Standards

The most significant benefit to businesses from proposed increases to size standards is gaining eligibility for Federal small business assistance programs or retaining that eligibility for a longer period. These include SBA's business loan programs, EIDL program, and Federal procurement programs intended for small businesses. Federal procurement programs provide targeted, set-aside opportunities for small businesses under the SBA's various contracting and business development programs. These include the 8(a) Business Development (BD) Program, the Historically Underutilized Business Zones (HUBZone) Program, the Women-Owned Small Businesses (WOSB) Program, the Economically Disadvantaged Women-Owned Small Businesses (EDWOSB) Program, and the Service-Disabled Veteran-Owned Small Businesses (SDVOSB) Program.

Based on the 2017 Economic and Agricultural Census (latest available), SBA estimates that more than 11,200 firms in 259 industries for which it has proposed to increase receipts based size standards, (see Table 20, Impacts of Increases and Decreases to Receipts Based Size Standards, below), not small under the current size standards, will become small under the proposed size standards increases and therefore become eligible for the above programs. That represents about 0.2 percent of all firms classified as small under the current size standards in industries for which SBA has proposed increasing receipts based size standards. If adopted, proposed size standards would result in an increase in the small business share of total firms in those industries from 98.4 percent to 98.5 percent. Similarly, the small business share of total receipts would increase from 30 percent under current size standards to 30.6 percent under proposed size standards, if adopted. Finally, the small business share of total employment would increase from 44.5 percent to 45.4 percent.

BILLING CODE 8026-09-P

BILLING CODE 8026-09-C

Besides proposing to increase receipts based size standards for 259 industries, SBA is proposing to increase assets based size standards for four financial industries, because of which about 110 additional financial firms (i.e., depository institutions and credit unions) would qualify as small. If adopted, proposed assets based size standards would result in an increase in the small business share of total firms in those industries from 82 percent to 83.2 percent. Similarly, the small business share of total assets would increase from 5.6 percent under current size standards to 6.0 percent under proposed size standards, if adopted.

Based on the FPDS data for fiscal years 2021-2023, SBA estimates that 324 firms that are active in Federal contracting in those industries would gain small business status under the proposed size standards. Based on the same data, SBA estimates that those newly qualified small businesses under the proposed increases to size standards, if adopted, could receive Federal small business contracts totaling about $647 million annually. That represents a 2.3 percent increase to small business dollars from the baseline.

Under SBA's business loan programs, based on the data for fiscal years 2021-2023, SBA estimates up to 84 of SBA's 7(a), CDC/504 and micro loans totaling about $49 million could be made to these newly qualified small businesses in those industries under the proposed size standards. That represents a 0.3 percent increase to the loan amount compared to the baseline.

Newly qualified small businesses will also benefit from the SBA's EIDL program. Since the benefit provided through this program is contingent on the occurrence and severity of a disaster in the future, SBA cannot make a meaningful estimate of this impact. However, based on the historical trends of the EIDL data, SBA estimates that, on an annual basis, the newly defined small businesses under the proposed increases to size standards, if adopted, could receive nine EIDL loans, totaling about $0.4 million, representing a 0.3 percent increase from the baseline.

Besides set-aside contracting and financial assistance discussed above, small businesses also benefit through reduced fees, less paperwork, and fewer compliance requirements that are available to small businesses through Federal government. However, SBA has no data to estimate the number of small businesses receiving such benefits and monetary values of those benefits.

With more businesses qualifying as small under the proposed increases to size standards, Federal agencies will have a larger pool of small businesses from which to draw for their small business procurement programs. Growing small businesses that are close to exceeding the current size standards will be able to retain their small business status for a longer period under the higher size standards, thereby enabling them to continue to benefit from the small business programs.

The added competition from more businesses qualifying as small can result in lower prices to the government for procurements set aside or reserved for small businesses, but SBA cannot quantify this impact. Costs could be higher when full and open contracts are awarded to HUBZone businesses that receive price evaluation preferences. However, with agencies likely setting aside more contracts for small businesses in response to the availability of a larger pool of small businesses under the proposed increases to size standards, HUBZone firms might actually end up getting more set-aside contracts and fewer full and open contracts, thereby resulting in some cost savings to agencies. While SBA cannot estimate such costs savings as it is impossible to determine the number and value of unrestricted contracts to be otherwise awarded to HUBZone firms will be awarded as set-asides, such cost savings are likely to be relatively small as only a small fraction of full and open contracts are awarded to HUBZone businesses.

Costs of Increases to Size Standards

Besides having to register in SAM to be able to participate in Federal contracting and update the SAM profile annually, small businesses incur no direct costs to gain or retain their small business status because of increases to size standards. All businesses willing to do business with Federal government must register in SAM and update their SAM profiles annually, regardless of their size status. SBA believes that a vast majority of businesses that are willing to participate in Federal contracting are already registered in SAM and update their SAM profiles annually. More importantly, this proposed rule does not establish the new size standards for the very first time; rather it intends to modify the existing size standards in accordance with a statutory requirement and the latest data and other relevant factors.

To the extent that the newly qualified small businesses could become active in Federal procurement, the proposed increases to size standards, if adopted, may entail some additional administrative costs to the government because of more businesses qualifying as small for Federal small business programs. For example, there will be more firms seeking SBA's loans, more firms eligible for enrollment in the Dynamic Small Business Search (DSBS) database or in certify.sba.gov, more firms seeking certification as 8(a)/BD or HUBZone firms or qualifying for small business, WOSB, EDWOSB, and SDVOSB status, and more firms applying for SBA's 8(a)/BD and all small business mentor-protégé programs. However, SBA estimates such costs to be de minimis because necessary administrative processes and mechanisms are already in place.

With an expanded pool of small businesses, it is likely that Federal agencies would set aside more contracts for small businesses under the proposed increases to size standards. One may surmise that this might result in a higher number of small business size protests and additional processing costs to agencies. However, the SBA's historical data on size protests shows that the number of size protests decreased following the increases to receipts based size standards as part of the first and second five-year reviews of size standards under the Jobs Act. Specifically, on an annual basis, the number of size protests fell from about 500-600 during 2011-2016 to an average of about 300 during 2020-2024. Among those newly defined small businesses seeking SBA's loans, there could be some additional costs associated with verification of their small business status. However, small business lenders have an option of using the tangible net worth and net income based alternative size standard instead of using the industry-based size standards to establish eligibility for SBA's loans. For these reasons, SBA believes that these added administrative costs will be de minimis because necessary mechanisms are already in place to handle these added requirements.

Additionally, some Federal contracts may have higher costs. With a greater number of businesses defined as small due to the proposed increases to size standards, Federal agencies may choose to set aside more contracts for competition among small businesses only instead of using a full and open competition. The movement of contracts from unrestricted competition to small business set-aside contracts might result in competition among fewer total bidders, although there will be more small businesses eligible to submit offers under the proposed size standards. However, the additional costs associated with fewer bidders are expected to be de minimis since, by law, procurements may be set aside for small businesses under the 8(a)/BD, HUBZone, WOSB, EDWOSB, or SDVOSB programs only if awards are expected to be made at fair and reasonable prices.

Costs may also be higher when full and open contracts are awarded to HUBZone businesses that receive price evaluation preferences. However, with agencies likely setting aside more contracts for small businesses in response to the availability of a larger pool of small businesses under the proposed increases to size standards, HUBZone firms might actually end up getting fewer full and open contracts, thereby resulting in some cost savings to agencies. However, such cost savings are likely to be minimal as only a small fraction of unrestricted contracts are awarded to HUBZone businesses.

Transfer Impacts of Increases to Size Standards

The proposed increases to size standards, if adopted, may result in some redistribution of Federal contracts between the newly qualified small businesses and large businesses and between the newly qualified small businesses and small businesses under the current standards. However, it would have no impact on the overall economic activity since total Federal contract dollars available for businesses to compete for will not change with changes to size standards. While SBA cannot quantify with certainty the actual outcome of the gains and losses from the redistribution contracts among different groups of businesses, it can identify several probable impacts in qualitative terms. With the availability of a larger pool of small businesses under the proposed increases to size standards, some unrestricted Federal contracts which would otherwise be awarded to large businesses may be set aside for small businesses. As a result, large businesses may lose some Federal contracting opportunities. Similarly, some small businesses under the current size standards may obtain fewer set aside contracts due to the increased competition from more advanced businesses qualifying as small under the proposed increases to size standards. This impact may be offset by a greater number of procurements being set aside for all small businesses. With larger businesses qualifying as small under higher size standards, smaller small businesses could face some disadvantage in competing for set-aside contracts against their larger counterparts. However, SBA cannot quantify these impacts.

3. What alternatives have been considered?

Under OMB's Circular A-4, SBA is required to consider regulatory alternatives to the proposed changes in the proposed rule. In this section, SBA describes and analyzes two such alternatives to the proposed rule. Alternative Option One to the proposed rule, a more stringent alternative to the proposed rule, would propose adopting size standards based solely on the analytical results. In other words, the size standards of 263 industries for which the analytical results suggest raising size standards would be raised. However, the size standards of 212 industries/subindustries for which the analytical results suggest lowering size standards would be lowered. Alternative Option Two, would propose retaining all size standards for all industries. Below, SBA discusses and presents the net impacts of each option.

Alternative Option One: Adopting All Calculated Size Standards

As discussed elsewhere in this proposed rule, Alternative Option One would cause 7,882 currently small businesses to lose their small business status and hence to lose their access to Federal small business assistance, especially small business set-aside contracts and SBA's financial assistance in some cases. These consequences could be mitigated. For example, in response to the 2008 Financial Crisis and economic conditions that followed, in the first five-year review of size standards under the Jobs Act, SBA adopted a general policy of not lowering any size standard (except to exclude dominant firms) even when the analytical results suggested some size standards might be lowered. In the second five-year review of size standards under the Jobs Act, in response to the economic impacts of the COVID-19 pandemic, SBA decided to adopt the same general policy of not lowering size standards, even if the analytical results suggested that some size standards might be lowered. For the reasons explained elsewhere in this proposed rule, in the current third five-year review of size standards under the Jobs Act, SBA is proposing a general policy of not lowering any size standards, except for excluding dominant firms from qualifying as small.

The primary benefit of adopting this alternative is that SBA's procurement, management, technical and financial assistance resources would be targeted to the most appropriate beneficiaries of such programs according to the analytical results. Adopting the size standards suggested by the analytical results would also promote consistency with analytical results in SBA's exercise of its authority to determine size standards. However, SBA expects the benefits of not lowering size standards to exceed the benefits of adopting size standards suggested by analytical results. SBA seeks public comment on the impact of adopting the size standard as suggested by the analytical results.

As explained in the Size Standards Methodology White Paper, in addition to adopting all results of the primary analysis, SBA evaluates other relevant factors as needed such as the impact of the reductions or increases of size standards on the distribution of contracts awarded to small businesses and may adopt different results with the intention of mitigating potential negative impacts.

We have discussed already the benefits and costs of increasing 263 size standards (259 receipts based and four assets based). Below we discuss the benefits and costs of decreasing size standards for 213 industries/subindustries.

Benefits of Decreases to Size Standards

The most significant benefit to businesses from decreases to size standards when the SBA's analysis suggests such decreases is to ensure that size standards are more reflective of latest industry structure and Federal market trends and that Federal small business assistance is more effectively targeted to its intended beneficiaries. These include SBA's business loan programs, EIDL program, and Federal procurement programs intended for small businesses. Federal procurement programs provide targeted, set-aside opportunities for small businesses under SBA's contracting and business development programs, such as small business, 8(a)/BD, HUBZone, WOSB, EDWOSB, and SDVOSB programs. The adoption of smaller size standards when the results support them diminishes the risk of awarding contracts to firms which are not small anymore.

Decreasing size standards may reduce the administrative costs of the government, because the risk of awarding contracts to other than small businesses may diminish when the size standards reflect better the structure of the market. The risks of providing SBA's loans to firms that are not needing them the most, or allowing firms that are not eligible for small business set-asides or to participate on the SBA procurement programs will provide for a better chance for smaller firms to grow and benefit from the opportunities available on the Federal market, and strengthen the small business industrial base for the Federal Government.

Costs of Decreases to Size Standards

With fewer businesses qualifying as small under the decreases to size standards, Federal agencies will have a smaller pool of small businesses from which to draw for their small business procurement programs. For example, under Alternative Option One, during fiscal years 2021-2023, agencies awarded, on an annual basis, about $60.4 billion in small business contracts in those 213 industries/subindustries for which this Option considered decreasing size standards. Table 20, above, shows that lowering those 213 size standards would reduce Federal contract dollars awarded to small businesses by about $2.0 billion or about 3.4 percent relative to the baseline level, of which 41.6 percent are accounted for by the Construction Sector (NAICS 23), followed by the Professional, Scientific, and Technical Services Sector (NAICS 54). Because of the importance of the construction and professional, scientific, and technical services sectors for the Federal procurement and the immediate impact on businesses that will see their status as small changed relatively fast, SBA could adopt certain mitigating measures to reduce the negative impact under the assumptions of Option One. SBA could adopt one or more of the following three actions: 1. to accept decreases in size standards as suggested by the analytical results, 2. to decrease size standards by a smaller amount than the calculated threshold, and 3. to retain the size standards at their current levels. Nevertheless, since Federal agencies are still required to meet the statutory small business contracting goal of 23 percent, actual impacts on the overall set aside activity is likely to be smaller as agencies are likely to award more set aside contracts to small businesses that continue to remain small under the reduced size standards.

With fewer businesses qualifying as small, the decreased competition can also result in higher prices to the Government for procurements set aside or reserved for small businesses, but SBA cannot quantify this impact. However, SBA estimates an almost null impact or non-significant reduction in dollars obligated to small businesses, if mitigation measures are adopted.

Decreases to size standards would have a very minor impact on small businesses applying for SBA's business loan programs because a vast majority of such loans are issued to businesses that are far below the reduced size standards. For example, based on the loan data for fiscal years 2021-2023, SBA estimates that about 72 of SBA's 7(a), CDC/504 and micro loans with total amounts of $35 million could not be made to those small businesses that would lose eligibility under the reduced size standards (before mitigation). That represents about one 0.4 percent decrease in the loan amounts compared to the baseline. Table 20, above, shows these results. However, the actual impact could be much less as businesses losing small business eligibility under the decreases to industry based size standards could still qualify for SBA's loans under the tangible net worth and net income based alternative size standard.

Businesses losing small business status would also be impacted in terms of access to loans through the SBA's EIDL program. However, SBA expects such an impact to be minimal because the vast majority of EIDL recipients were well below the reduced size standards. As shown in Table 20 (above), based on EIDL data during fiscal years 2021-2023, only six loans, totaling $0.3 million, could not be made to businesses losing small business status if SBA were to decrease size standards in those 213 industries/subindustries. Additionally, since this program is contingent on the occurrence and severity of a disaster in the future, SBA cannot make a meaningful estimate of this impact.

Small businesses becoming other than small if size standards were decreased might lose benefits through reduced fees, less paperwork, and fewer compliance requirements that are available to small businesses through Federal government, but SBA has no data to quantify this impact. However, if agencies determine that SBA's size standards do not adequately serve such purposes, they can establish a different size standard with an approval from SBA if they are required to use SBA's size standards for their programs.

Transfer Impacts of Decreases to Size Standards

If the size standards were decreased under Alternative Option One, it may result in a redistribution of Federal contracts between small businesses losing the small business status and large businesses, and between small businesses losing the small business status and small businesses remaining small under the reduced size standards. However, as under the proposed increases to size standards, it would have no impact on the overall economic activity since total Federal contract dollars available for businesses to compete for will stay the same. While SBA cannot estimate with certainty the actual outcome of the gains and losses among different groups of businesses from contract redistribution resulting from decreases to size standards, it can identify several probable impacts. With a smaller pool of small businesses under the decreases to size standards, some set-aside Federal contracts to be otherwise awarded to small businesses may be competed on an unrestricted basis. As a result, large businesses may have more Federal contracting opportunities. However, because agencies are still required by law to award 23 percent of dollars to small businesses, SBA expects the movement of set-aside contracts to unrestricted competition to be limited. For the same reason, small businesses remaining small under the reduced size standards are likely to obtain more set aside contracts due to the reduced competition from fewer businesses qualifying as small under the decreases to size standards. With some larger small businesses losing small business status under the decreases to size standards, smaller small businesses would likely become more competitive in obtaining set aside contracts. However, SBA cannot quantify these impacts.

Net Impacts of Alternative Option One

To estimate the net impacts of Alternative Option One, SBA followed the same methodology the Agency used to evaluate the impacts of the proposed increases to size standards (see Table 20, above). However, under Alternative Option One, SBA used the calculated size standards instead of the proposed ones to determine the net impacts of adopting changes to current thresholds. The impacts of the increases of size standards were already shown in Table 20 (above). Also presented in Table 20 are the impacts of the decreases in size standards, as well as the net impacts of adopting the calculated results under Alternative Option One.

Based on the 2017 Economic and Agricultural Census, SBA estimates that in 476 industries or subindustries (including 263 increases and 213 decreases) for which the analytical results suggested changing the size standards, about 3,350 firms (see Table 20, above) would become small under Alternative Option One. That represents less than 0.1 percent of all firms in those industries/subindustries classified as small under the current size standards.

Based on the FPDS data for fiscal years 2021-2023, SBA estimates that, in terms of net impact, about 46 active firms in Federal contracting in those industries, most of them from the construction sector, would lose small business status under Alternative Option One. This represents a decrease of about 0.1 percent of the total number of small businesses participating in Federal contracting under the current size standards. Based on the same data, SBA estimates that about $1.4 billion of Federal procurement dollars would not be available to firms losing their small status. This represents a decrease of 1.6 percent from the baseline. Again, a large amount of the losses are accounted for by the construction sector.

Based on the SBA's business loan data for fiscal years 2021-2023, the total number of 7(a), CDC/504 and micro loans may decrease by about 12 loans, and the loan amount will decrease by about $14 million. This represents about 0.1 percent decrease in the SBA business loan amount relative to the baseline.

Firms' participation under the SBA's EIDL program will be affected as well. Since the benefit provided through this program is contingent on the occurrence and severity of a disaster in the future, SBA cannot make a meaningful estimate of this impact. However, based on the historical trends of the EIDL data, SBA estimates that, on an annual basis, the net impact of Alternative Option One on additional loans is three, and additional total loan amount of about $0.1 million for the industries/subindustries for which analytical results suggested changes to size standards.

Alternative Option Two: Retaining All Current Size Standards

Under this option, as discussed elsewhere, SBA considered retaining the current levels of all size standards even though the analytical results may suggest changing them. SBA estimates a net impact of zero for this option, when compared to the baseline. However, if we compare the proposal of adopting 263 increases to size standards with this alternative approach, the benefits for small businesses of adopting the former will not be attained.

Executive Order 14192

E.O. 14192, titled “Unleashing Prosperity Through Deregulation” (90 FR 9065; February 6, 2025), and the accompanying OMB guidance (OMB M-25-20), dated March 26, 2025, require agencies to identify at least 10 existing rules to be repealed for each new regulation. E.O. 14192 and OMB guidance require agencies to ensure the total incremental costs of new regulations, including repealed regulations, being finalized in fiscal year 2025, shall be significantly less than zero. E.O. 14192 and OMB guidance provide that any new incremental costs associated with new regulations shall, to the extent permitted by law, be offset by the elimination of existing costs associated with at least 10 prior regulations being repealed.

This rule is not an E.O. 14192 “regulatory action,” because this rule is not significant under E.O. 12866.

Initial Regulatory Flexibility Act

According to the Regulatory Flexibility Act (RFA), 5 U.S.C. 601-612, when an agency issues a rulemaking, it must prepare a regulatory flexibility analysis to address the impact of the rule on small entities.

This proposed rule, if adopted, may have a significant impact on a substantial number of small businesses in the industries and subindustries covered by this proposed rule. As described above, this rule may affect small businesses seeking Federal contracts, loans under SBA's 7(a), CDC/504, micro EIDL Loan Programs, and assistance under other Federal small business programs.

Immediately below, SBA sets forth an initial regulatory flexibility analysis (IRFA) of this proposed rule addressing the following questions: (1) What are the need for and objective of the rule?; (2) What are SBA's description and estimate of the number of small businesses to which the rule will apply?; (3) What are the projected reporting, record keeping, and other compliance requirements of the rule?; (4) What are the relevant Federal rules that may duplicate, overlap, or conflict with the rule?; and (5) What alternatives will allow the Agency to accomplish its regulatory objectives while minimizing the impact on small businesses?

1. What are the need for and objective of the rule?

Changes in industry structure, technological changes, productivity growth, mergers and acquisitions, and updated industry definitions have changed the structure of many of the industries covered by this proposed rule. Such changes can be enough to support revisions to current size standards for some industries. Based on the analysis of the latest data available, SBA believes that the revised standards in this proposed rule more appropriately reflect the size of businesses that need Federal assistance. The Small Business Jobs Act of 2010 also requires SBA to review every five years all size standards and make necessary adjustments to reflect market conditions. SBA completed the first five-year review of size standards in 2016 and the second five-year review in 2023. This rule is part of the ongoing third five-year review of size standards under the Jobs Act.

2. What are SBA's description and estimate of the number of small businesses to which the rule will apply?

Based on data from the 2017 Economic and Agricultural Census (latest available when this proposed rule was prepared), SBA estimates that there are about 5.04 million small firms covered by this rulemaking under industries with proposed increases to size standards. If the proposed rule is adopted in its present form, SBA estimates that an additional 11,300 businesses will become small.

3. What are the projected reporting, record keeping and other compliance requirements of the rule?

The proposed size standard changes impose no additional reporting or record keeping requirements on small businesses. However, qualifying for Federal procurement and a number of other programs requires that businesses register in SAM and self-certify that they are small at least once annually. Therefore, businesses opting to participate in those programs must comply with SAM requirements. There are no costs associated with SAM registration or certification. Changing size standards alters the access to SBA's programs that assist small businesses but does not impose a regulatory burden because they neither regulate nor control business behavior.

4. What are the relevant Federal rules, which may duplicate, overlap or conflict with the rule?

Under section 3(a)(2)(C) of the Small Business Act, 15 U.S.C. 632(a)(2)(c), Federal agencies must use SBA's size standards to define a small business, unless specifically authorized by statute to do otherwise. In 1995, SBA published in the Federal Register a list of statutory and regulatory size standards that identified the application of SBA's size standards as well as other size standards used by Federal agencies (60 FR 57988 (November 24, 1995)). SBA is not aware of any Federal rules that would duplicate or conflict with establishing size standards.

However, the Small Business Act and SBA's regulations allow Federal agencies to develop different size standards if they believe that SBA's size standards are not appropriate for their programs, with the approval of SBA's Administrator (13 CFR 121.903). The Regulatory Flexibility Act authorizes an Agency to establish an alternative small business definition, after consultation with the Office of Advocacy of the U.S. Small Business Administration (5 U.S.C. 601(3)).

5. What alternatives will allow the Agency to accomplish its regulatory objectives while minimizing the impact on small entities?

By law, SBA is required to develop numerical size standards for establishing eligibility for Federal small business assistance programs. Other than varying size standards by industry and changing the size measures, no practical alternative exists to the systems of numerical size standards.

Executive Order 13563

Executive Order 13563 emphasizes the importance of quantifying both costs and benefits, reducing costs, harmonizing rules, and promoting flexibility. A description of the need for this regulatory action and benefits and costs associated with this action including possible distributional impacts that relate to Executive Order 13563 is included above in the Regulatory Impact Analysis under Executive Order 12866. Additionally, Executive Order 13563, section 6, calls for retrospective analyses of existing rules.

The review of size standards in the industries covered by this proposed rule is consistent with section 6 of Executive Order 13563 and the Jobs Act which requires SBA to review all size standards and make necessary adjustments to reflect market conditions. Specifically, the Jobs Act requires SBA to review at least one-third of all size standards during every 18-month period from the date of its enactment (September 27, 2010) and to review all size standards not less frequently than once every five years, thereafter. In accordance with the Jobs Act, SBA completed the first five-year comprehensive review of size standards in 2016 and the second five-year comprehensive review in 2023. This proposed rule is part of the third five-year comprehensive review of size standards under the Jobs Act.

In conjunction with the third five-year review of size standards under the Jobs Act, SBA issued a White Paper entitled “Revised Size Standards Methodology” and published a notice in the December 11, 2023, edition of the Federal Register (88 FR 85852) to advise the public that the document is available for public review and comments. Pursuant to section 1344 of the Jobs Act, on June 23 and 25, 2023, SBA held two public forums on size standards to update the public on the status of the quinquennial reviews of size standards under the Jobs Act and seek public feedback on proposed revisions to the size standards methodology. The “Size Standards Methodology” White Paper explains how SBA establishes, reviews, or modifies its small business size standards. SBA received 21 comments, including one received during the public forums on size standards. SBA considered all input, suggestions, recommendations, and relevant information obtained from industry groups, individual businesses, and Federal agencies in finalizing the Revised Methodology. Along with the publication of a notice in the September 12, 2024, Federal Register issue (89 FR 74109), on the same date, SBA issued the final Revised Methodology at its website at www.sba.gov/size. SBA has relied on the Revised Methodology to develop the proposed size standards changes in this proposed rule.

Executive Order 12988

This action meets applicable standards set forth in sections 3(a) and 3(b)(2) of Executive Order 12988, Civil Justice Reform, to minimize litigation, eliminate ambiguity, and reduce burden. The action does not have retroactive or preemptive effect.

Executive Order 13132

For purposes of Executive Order 13132, SBA has determined that this proposed rule will not have substantial, direct effects on the States, on the relationship between the national government and the States, or on the distribution of power and responsibilities among the various levels of government. Therefore, SBA has determined that this proposed rule has no federalism implications warranting preparation of a federalism assessment.

Paperwork Reduction Act

For the purpose of the Paperwork Reduction Act, 44 U.S.C. Ch. 35, SBA has determined that this rule will not impose any new reporting or record keeping requirements.

List of Subjects in 13 CFR Part 121

Administrative practice and procedure, Authority delegations (Government agencies), Government procurement, Government property, Grant programs—business, Individuals with disabilities, Intergovernmental relations, Investigations, Investment companies, Loan programs—business, Reporting and recordkeeping requirements, Small businesses.

For the reasons set forth in the preamble, SBA proposes to amend 13 CFR part 121 as follows:

PART 121—SMALL BUSINESS SIZE REGULATIONS

1. The authority citation for part 121 continues to read as follows:

Authority: 15 U.S.C. 632, 634(b)(6), 636(a)(36) 662, and 694a(9).

2. In § 121.201, amend the table “Small Business Size Standards by NAICS Industry” by revising:

a. Under Subsector 111, the entries for “111110”, “111120”, “111140”, “111150”, “111160”, “111191”, “111199”, “111910”, “111940”, “111991”, “111992”, and “111998”;

b. Under Subsector 112, the entries for “112111”, “112320”, “112420”, “112920”, and “112990”;

c. Under Subsector 113, the entries for “113110” and “113210”;

d. Under Subsector 114, the entries for “114112”. “114119”, and “114210”;

e. Under Subsector 115, the entries for “115111”, “115112”, “115113”; “115115”, “115116”, “115210”, and “115310”;

f. Under Subsection 213, the entry for “213115”;

g. Under Subsector 221, the entries for “221310” and “221330”;

h. Under Subsector 238, the entry for “238290”;

i. Under Subsector 441, the entry for “441330”;

j. Under Subsector 444, the entries for “444120”, “444140”, “444230”, and “444240”;

k. Under Subsector 445, the entries for “445132”, “445230”, “445240”, “445250”, “445291”, “445292”, “445298”, and “445320”;

l. Under Subsector 449, the entries for “449110”, “449121”, 449122”, and “449129”;

m. Under Subsector 456, the entries for “456110” and “456199”;

n. Under Subsector 457, the entry for “457120”;

o. Under Subsector 458, the entries for “458210”, “458310”, and “458320”;

p. Under Subsector 459, the entries for “459110”, “459120”, “459310”, “459420”, “459510”, “459910”, “459920”, “459930”, and “459999”;

q. Under Subsector 481, the entry for “481219”;

r. Under Subsector 485, the entries for “485113”, “485210”, “485310”, “485410” “485510”, “485991”, and “485999”;

s. Under Subsector 486, the entry for “486210”;

t. Under Subsector 487, the entries for “487210” and “487990”;

u. Under Subsector 488, the entries for “488410”, “488490”, “488510”, and “488999”;

v. Under Subsector 488, eliminate the entry “488510 (Exception)”;

w. Under Subsector 493, the entry for “493120”;

x. Under Subsector 512, the entries for “512132”, “512240”, and “512290”;

y. Under Subsector 517, the entries for “517410” and “517810”;

z. Under Subsector 518, the entry for “518210”;

aa. Under Subsector 519, the entry for “519210”;

bb. Under Subsector 522, the entries for “522110”, “522130”, “522180”, “522210”, “522310” and “522390”;

cc. Under Subsector 524, the entries for “524210”, “524292”, and “524298”;

dd. Under Subsector 531, the entries for “531210”, “531311”, “531312”, “531320”, and “531390”;

ee. Under Subsector 532, the entries for “532284”, “532289”, “532310”, “532411”, and “532412”;

ff. Under Subsector 541, the entries for “541110”, “541199”, “541211”, “541213”, “541310”, “541320”, “541330”, “541330 (Exception 1)”, “541330 (Exception 2)”, “541330 (Exception 3)”, “541340”, “541350”, “541360”, “541380”, “541410”, “541420”, “541430”, “541490”, “541611”, “541613”, “541614”, “541720”, “541810”, “541820”, “541830”, “541840”, “541860”, “541870”, “541890”, “541910”, “541921”, “541922”, “541930”, and “541940”;

gg. Under Subsector 561.the entries for “561110”, “561330”, “561410”, “561421”, “561422”, “561439”, “561440”, “561450”, “561492”, “561499”, “561510”, “561599”, “561612”, “561613”, “561621”, “561710”, “561730”, “561740”, “561790”, “561910”, “561920”, and “561990”;

hh. Under Subsector 562, the entry for “562991”;

ii. Under Subsector 611, the entries for “611110”, “611310”, “611410”, “611420”, “611430”, “611511”, “611512”, “611513”, “611610” “611620”, “611630”, “611691”, “611692”, and “611710”;

jj. Under Subsector 621, the entries for “621111”, “621210”, “621310”, “621320”, “621330”, “621340”, “621391”, “621399”, “621410”, “621493”, “621498”, “621511”, “621512”, “621610”, “621910”, and “621999”;

kk. Under Subsector 623, the entries for “623210”, “623220”, “623312”, and “623990”;

ll. Under Subsector 624, the entries for “624110”, “624120”, “624190”, “624210”, “624221”, “624229”, “624230”, “624310”, and “624410”;

mm. Under Subsector 711, the entries for “711120”, “711130”, “711190”, “711219”, “711320”, “711410”, and “711510”;

nn. Under Subsector 712, the entries for “712120” and “712190”;

oo. Under Subsector 713, the entries for “713120”, “713920”, “713930”, “713940”, “713950”, and “713990”;

pp. Under Subsector 721, the entries for “721191”, “721199”, “721211”, “721214”, and “721310”;

qq. Under Subsector 722, the entries for “722320”, “722330”, “722410”, “722511”, and “722513”;

rr. Under Subsector 811, the entries for “811111”, “811114”, “811121”, “811122”, “811191”, “811192”, “811198”, “811310”, “811411”, “811412”, “811420”, “811430”, and “811490”;

ss. Under Subsector 812, the entries for “812111”, “812112”, “812113”, “812199”, “812210”, “812310”, “812320”, “812910”, “812921”, and “812990”; and

tt. Under Subsector 813, the entries for “813110”, “813311”, “813312”, “813319”, “813410”, “813910”, “813920”, “813930”, “813940”, and “813990”.

3. Include a new footnote, Footnote 19, to entries “541330”, “541330 (Exception 1)”, “541330 (Exception 2)”, and “541330 Exception 3)”.

The revisions read as follows:

§ 121.201 What size standards has SBA identified by North American Industry Classification System codes?

* * * * *

Small Business Size Standards by NAICS Industry
NAICS code | NAICS U.S. industry title | Size standards in millions of dollars | Size standards in number of employees
Sector 11—Agriculture, Forestry, Fishing and Hunting
Subsector 111—Crop Production
111110 | Soybean Farming | $2.75 |
111120 | Oilseed (except Soybean) Farming | 2.75 |
* * * * * * *
111140 | Wheat Farming | 2.5 |
111150 | Corn Farming | 2.75 |
111160 | Rice Farming | 2.75 |
111191 | Oilseed and Grain Combination Farming | 2.75 |
111199 | All Other Grain Farming | 2.75 |
* * * * * * *
111910 | Tobacco Farming | 2.75 |
* * * * * * *
111940 | Hay Farming | 2.75 |
111991 | Sugar Beet Farming | 3.0 |
111992 | Peanut Farming | 3.0 |
111998 | All Other Miscellaneous Crop Farming | 3.0 |
Subsector 112—Animal Production and Aquaculture
112111 | Beef Cattle Ranching and Farming | 2.75 |
* * * * * * *
112320 | Broilers and Other Meat Type Chicken Production | 3.75 |
* * * * * * *
112420 | Goat Farming | 2.75 |
* * * * * * *
112920 | Horses and Other Equine Production | 3.0 |
* * * * * * *
112990 | All Other Animal Production | 3.25 |
Subsector 113—Forestry and Logging
113110 | Timber Tract Operations | 26.0 |
113210 | Forest Nurseries and Gathering of Forest Products | 21.5 |
* * * * * * *
Subsector 114—Fishing, Hunting and Trapping
* * * * * * *
114112 | Shellfish Fishing | 15.0 |
114119 | Other Marine Fishing | 25.5 |
114210 | Hunting and Trapping | 14.5 |
Subsector 115—Support Activities for Agriculture and Forestry
115111 | Cotton Ginning | 17.0 |
115112 | Soil Preparation, Planting, and Cultivating | 12.0 |
115113 | Crop Harvesting, Primarily by Machine | 21.5 |
* * * * * * *
115115 | Farm Labor Contractors and Crew Leaders | 20.0 |
115116 | Farm Management Services | 22.0 |
115210 | Support Activities for Animal Production | 14.0 |
115310 | Support Activities for Forestry | 13.5 |
* * * * * * *
Sector 21—Mining, Quarrying, and Oil and Gas Extraction
* * * * * * *
Subsector 213—Support Activities for Mining
* * * * * * *
213115 | Support Activities for Nonmetallic Minerals (except Fuels) Mining | 27.0 |
Sector 22—Utilities
Subsector 221—Utilities
* * * * * * *
221310 | Water Supply and Irrigation Systems | 41.5 |
* * * * * * *
221330 | Steam and Air-Conditioning Supply | 36.0 |
Sector 23—Construction
* * * * * * *
Subsector 238—Specialty Trade Contractors
* * * * * * *
238120 | Structural Steel and Precast Concrete Contractors | 19.5 |
* * * * * * *
238290 | Other Building Equipment Contractors | 27.5 |
* * * * * * *
Sector 44-45—Retail Trade
* * * * * * *
Subsector 441—Motor Vehicle and Parts Dealers
* * * * * * *
441330 | Automotive Parts and Accessories Retailers | 29.5 |
* * * * * * *
Subsector 444—Building Material and Garden Equipment and Supplies Dealers
* * * * * * *
444120 | Paint and Wallpaper Retailers | 38.5 |
444140 | Hardware Retailers | 22.0 |
* * * * * * *
444230 | Outdoor Power Equipment Retailers | 13.5 |
444240 | Nursery, Garden Center, and Farm Supply Retailers | 25.0 |
Subsector 445—Food and Beverage Stores
* * * * * * *
445132 | Vending Machine Operators | 28.5 |
445230 | Fruit and Vegetable Retailers | 14.0 |
445240 | Meat Retailers | 11.5 |
445250 | Fish and Seafood Retailers | 12.0 |
445291 | Baked Goods Retailers | 16.5 |
445292 | Confectionery and Nut Retailers | 21.5 |
445298 | All Other Specialty Food Retailers | 11.5 |
445320 | Beer, Wine, and Liquor Retailers | 14.0 |
Subsector 449—Furniture, Home Furnishings, Electronics, and Appliance Retailers
449110 | Furniture Retailers | 26.0 |
449121 | Floor Covering Retailers | 14.5 |
449122 | Window Treatment Retailers | 13.0 |
449129 | All Other Home Furnishings Retailers | 34.5 |
* * * * * * *
Subsector 456—Health and Personal Care Retailers
456110 | Pharmacies and Drug Retailers | 38.0 |
* * * * * * *
456199 | All Other Health and Personal Care Retailers | 15.0 |
Subsector 457—Gasoline Stations and Fuel Dealers
* * * * * * *
457120 | Other Gasoline Stations | 36.0 |
* * * * * * *
Subsector 458—Clothing, Clothing Accessories, Shoe, and Jewelry Retailers
* * * * * * *
458210 | Shoe Retailers | 34.5 |
458310 | Jewelry Retailers | 23.5 |
458320 | Luggage and Leather Goods Retailers | 41.0 |
Subsector 459—Sporting Goods, Hobby, Musical Instrument, Book, and Miscellaneous Retailers
459110 | Sporting Goods Retailers | 28.5 |
459120 | Hobby, Toy, and Game Retailers | 35.5 |
* * * * * * *
459310 | Florists | 10.5 |
* * * * * * *
459420 | Gift, Novelty, and Souvenir Retailers | 19.0 |
459510 | Used Merchandise Retailers | 17.0 |
459910 | Pet and Pet Supplies Retailers | 33.5 |
459920 | Art Dealers | 24.0 |
459930 | Manufactured (Mobile) Home Dealers | 26.0 |
* * * * * * *
459999 | All Other Miscellaneous Retailers | 34.0 |
Sector 48-49—Transportation and Warehousing
Subsector 481—Air Transportation
* * * * * * *
481219 | Other Nonscheduled Air Transportation | 28.0 |
* * * * * * *
Subsector 485—Transit and Ground Passenger Transportation
* * * * * * *
485113 | Bus and Other Motor Vehicle Transit Systems | 41.0 |
* * * * * * *
485210 | Interurban and Rural Bus Transportation | 34.00 |
485310 | Taxi and Ridesharing Services | 37.0 |
* * * * * * *
485410 | School and Employee Bus Transportation | 31.5 |
485510 | Charter Bus Industry | 20.0 |
485991 | Special Needs Transportation | 19.5 |
485999 | All Other Transit and Ground Passenger Transportation | 19.5 |
Subsector 486—Pipeline Transportation
* * * * * * *
486210 | Pipeline Transportation of Natural Gas | 46.00 |
* * * * * * *
Subsector 487—Scenic and Sightseeing Transportation
* * * * * * *
487210 | Scenic and Sightseeing Transportation, Water | 18.0 |
487990 | Scenic and Sightseeing Transportation, Other | 27.5 |
Subsector 488—Support Activities for Transportation
* * * * * * *
488410 | Motor Vehicle Towing | 11.0 |
488490 | Other Support Activities for Road Transportation | 24.0 |
488510 | Freight Transportation Arrangement ¹⁰ | ¹⁰ 34.0 |
* * * * * * *
488999 | All Other Support Activities for Transportation | 31.0 |
* * * * * * *
Subsector 493—Warehousing and Storage
* * * * * * *
493120 | Refrigerated Warehousing and Storage | 39.5 |
* * * * * * *
Sector 51—Information
Subsector 512—Motion Picture and Sound Recording Industries
* * * * * * *
512132 | Drive-In Motion Picture Theaters | 18.0 |
* * * * * * *
512240 | Sound Recording Studios | 13.5 |
* * * * * * *
512290 | Other Sound Recording Industries | 27.5 |
* * * * * * *
Subsector 517—Telecommunications
* * * * * * *
517410 | Satellite Telecommunications | 45.0 |
517810 | All Other Telecommunications | 45.5 |
Subsector 518—Computing Infrastructure Providers, Data Processing, Web Hosting, and Related Services
518210 | Computing Infrastructure Providers, Data Processing, Web Hosting, and Related Services | 40.5 |
Subsector 519—Web Search Portals, Libraries, Archives, and Other Information Services
519210 | Libraries and Archives | 24.0 |
* * * * * * *
Sector 52—Finance and Insurance
Subsector 522—Credit Intermediation and Related Activities
522110 | Commercial Banking ⁸ | ⁸ 925 million in assets |
522130 | Credit Unions ⁸ | ⁸ 925 million in assets |
522180 | Savings Institutions and Other Depository Credit Intermediation⁸ | ⁸ 925 million in assets |
522210 | Credit Card Issuing ⁸ | ⁸ 925 million in assets |
* * * * * * *
522310 | Mortgage and Nonmortgage Loan Brokers | 23.5 |
* * * * * * *
522390 | Other Activities Related to Credit Intermediation | 37.0 |
* * * * * * *
Subsector 524—Insurance Carriers and Related Activities
* * * * * * *
524210 | Insurance Agencies and Brokerages | 19.0 |
* * * * * * *
524292 | Pharmacy Benefit Management and Other Third Party Administration of Insurance and Pension Funds | 47.0 |
524298 | All Other Insurance Related Activities | 32.0 |
* * * * * * *
Sector 53—Real Estate and Rental and Leasing
Subsector 531—Real Estate
* * * * * * *
531210 | Offices of Real Estate Agents and Brokers ¹⁰ | ¹⁰ 19.5 |
531311 | Residential Property Managers | 17.5 |
531312 | Nonresidential Property Managers | 32.5 |
531320 | Offices of Real Estate Appraisers | 16.0 |
531390 | Other Activities Related to Real Estate | 25.0 |
Subsector 532—Rental and Leasing Services
* * * * * * *
532284 | Recreational Goods Rental | 14.0 |
532289 | All Other Consumer Goods Rental | 15.5 |
532310 | General Rental Centers | 13.0 |
532411 | Commercial Air, Rail, and Water Transportation Equipment Rental and Leasing | 47.0 |
532412 | Construction, Mining, and Forestry Machinery and Equipment Rental and Leasing | 42.0 |
* * * * * * *
Sector 54—Professional, Scientific and Technical Services
Subsector 541—Professional, Scientific and Technical Services
541110 | Offices of Lawyers | 19.0 |
* * * * * * *
541199 | All Other Legal Services | 24.5 |
541211 | Offices of Certified Public Accountants | 31.5 |
541213 | Tax Preparation Services | 26.0 |
* * * * * * *
541310 | Architectural Services | 16.0 |
541320 | Landscape Architectural Services | 11.0 |
541330 | Engineering Services ¹⁹ | ¹⁹ 29.0 |
541330 (Exception 1) | Military and Aerospace Equipment and Military Weapons ¹⁹ | ¹⁹ 47.0 |
541330 (Exception 2) | Contracts and Subcontracts for Engineering Services Awarded Under the National Energy Policy Act of 1992 ¹⁹ | ¹⁹ 47.0 |
541330 (Exception 3) | Marine Engineering and Naval Architecture ¹⁹ | ¹⁹ 47.0 |
541340 | Drafting Services | 12.0 |
541350 | Building Inspection Services | 12.5 |
541360 | Geophysical Surveying and Mapping Services | 29.0 |
* * * * * * *
541380 | Testing Laboratories and Services | 23.5 |
541410 | Interior Design Services | 11.5 |
541420 | Industrial Design Services | 19.5 |
541430 | Graphic Design Services | 11.5 |
541490 | Other Specialized Design Services | 17.0 |
* * * * * * *
541611 | Administrative Management and General Management Consulting Services | 27.0 |
* * * * * * *
541613 | Marketing Consulting Services | 19.5 |
541614 | Process, Physical Distribution, and Logistics Consulting Services | 21.0 |
* * * * * * *
541720 | Research and Development in the Social Sciences and Humanities | 31.0 |
541810 | Advertising Agencies ¹⁰ | ¹⁰ 30.0 |
541820 | Public Relations Agencies | 20.0 |
541830 | Media Buying Agencies | 37.5 |
541840 | Media Representatives | 27.0 |
* * * * * * *
541860 | Direct Mail Advertising | 23.0 |
541870 | Advertising Material Distribution Services | 36.5 |
541890 | Other Services Related to Advertising | 20.0 |
541910 | Marketing Research and Public Opinion Polling | 28.0 |
541921 | Photography Studios, Portrait | 22.5 |
541922 | Commercial Photography | 12.0 |
541930 | Translation and Interpretation Services | 25.0 |
541940 | Veterinary Services | 14.5 |
* * * * * * *
Sector 56—Administrative and Support and Waste Management and Remediation Services
Subsector 561—Administrative and Support Services
561110 | Office Administrative Services | 15.5 |
* * * * * * *
561330 | Professional Employer Organizations | 47.0 |
561410 | Document Preparation Services | 20.0 |
561421 | Telephone Answering Services | 21.5 |
561422 | Telemarketing Bureaus and Other Contact Centers | 29.5 |
* * * * * * *
561439 | Other Business Service Centers (including Copy Shops) | 31.5 |
561440 | Collection Agencies | 27.5 |
561450 | Credit Bureaus | 46.5 |
* * * * * * *
561492 | Court Reporting and Stenotype Services | 20.5 |
561499 | All Other Business Support Services | 26.0 |
561510 | Travel Agencies ¹⁰ | ¹⁰ 33.5 |
* * * * * * *
561599 | All Other Travel Arrangement and Reservation Services | 35.0 |
* * * * * * *
561612 | Security Guards and Patrol Services | 34.0 |
561613 | Armored Car Services | 45.0 |
561621 | Security Systems Services (except Locksmiths) | 30.0 |
* * * * * * *
561710 | Exterminating and Pest Control Services | 19.5 |
* * * * * * *
561730 | Landscaping Services | 13.0 |
561740 | Carpet and Upholstery Cleaning Services | 11.5 |
561790 | Other Services to Buildings and Dwellings | 10.5 |
561910 | Packaging and Labeling Services | 23.5 |
561920 | Convention and Trade Show Organizers | 23.5 |
561990 | All Other Support Services | 20.5 |
Subsector 562—Waste Management and Remediation Services
* * * * * * *
562991 | Septic Tank and Related Services | 12.0 |
* * * * * * *
Sector 61—Educational Services
Subsector 611—Educational Services
611110 | Elementary and Secondary Schools | 22.0 |
* * * * * * *
611310 | Colleges, Universities, and Professional Schools | 38.0 |
611410 | Business and Secretarial Schools | 25.5 |
611420 | Computer Training | 22.5 |
611430 | Professional and Management Development Training | 17.5 |
611511 | Cosmetology and Barber Schools | 14.0 |
611512 | Flight Training | 34.5 |
611513 | Apprenticeship Training | 15.0 |
* * * * * * *
611610 | Fine Arts Schools | 10.5 |
611620 | Sports and Recreation Instruction | 12.5 |
611630 | Language Schools | 22.0 |
611691 | Exam Preparation and Tutoring | 17.0 |
611692 | Automobile Driving Schools | 12.0 |
* * * * * * *
611710 | Educational Support Services | 27.5 |
Sector 62—Health Care and Social Assistance
Subsector 621—Ambulatory Health Care Services
621111 | Offices of Physicians (except Mental Health Specialists) | 19.0 |
* * * * * * *
621210 | Offices of Dentists | 10.5 |
621310 | Offices of Chiropractors | 10.0 |
621320 | Offices of Optometrists | 11.0 |
621330 | Offices of Mental Health Practitioners (except Physicians) | 10.5 |
621340 | Offices of Physical, Occupational and Speech Therapists, and Audiologists | 16.0 |
621391 | Offices of Podiatrists | 10.5 |
621399 | Offices of All Other Miscellaneous Health Practitioners | 15.0 |
621410 | Family Planning Centers | 21.5 |
* * * * * * *
621493 | Freestanding Ambulatory Surgical and Emergency Centers | 25.5 |
621498 | All Other Outpatient Care Centers | 28.5 |
621511 | Medical Laboratories | 42.5 |
621512 | Diagnostic Imaging Centers | 22.0 |
621610 | Home Health Care Services | 22.5 |
621910 | Ambulance Services | 28.5 |
* * * * * * *
621999 | All Other Miscellaneous Ambulatory Health Care Services | 22.5 |
* * * * * * *
Subsector 623—Nursing and Residential Care Facilities
* * * * * * *
623210 | Residential Intellectual and Developmental Disability Facilities | 21.0 |
623220 | Residential Mental Health and Substance Abuse Facilities | 21.0 |
* * * * * * *
623312 | Assisted Living Facilities for the Elderly | 26.0 |
623990 | Other Residential Care Facilities | 19.5 |
Subsector 624—Social Assistance
624110 | Child and Youth Services | 19.0 |
624120 | Services for the Elderly and Persons with Disabilities | 17.0 |
624190 | Other Individual and Family Services | 20.5 |
624210 | Community Food Services | 22.0 |
624221 | Temporary Shelters | 16.0 |
624229 | Other Community Housing Services | 22.0 |
624230 | Emergency and Other Relief Services | 44.5 |
624310 | Vocational Rehabilitation Services | 18.0 |
624410 | Child Care Services | 13.0 |
Sector 71—Arts, Entertainment and Recreation
Subsector 711—Performing Arts, Spectator Sports and Related Industries
* * * * * * *
711120 | Dance Companies | 21.5 |
711130 | Musical Groups and Artists | 18.5 |
711190 | Other Performing Arts Companies | 42.0 |
* * * * * * *
711219 | Other Spectator Sports | 19.5 |
* * * * * * *
711320 | Promoters of Performing Arts, Sports, and Similar Events without Facilities | 32.5 |
711410 | Agents and Managers for Artists, Athletes, Entertainers, and Other Public Figures | 23.0 |
711510 | Independent Artists, Writers, and Performers | 12.0 |
Subsector 712—Museums, Historical Sites and Similar Institutions
* * * * * * *
712120 | Historical Sites | 21.0 |
* * * * * * *
712190 | Nature Parks and Other Similar Institutions | 22.5 |
Subsector 713—Amusement, Gambling and Recreation Industries
* * * * * * *
713120 | Amusement Arcades | 25.0 |
* * * * * * *
713920 | Skiing Facilities | 40.0 |
713930 | Marinas | 13.5 |
713940 | Fitness and Recreational Sports Centers | 20.5 |
713950 | Bowling Centers | 16.0 |
713990 | All Other Amusement and Recreation Industries | 12.0 |
Sector 72—Accommodation and Food Services
Subsector 721—Accommodation
* * * * * * *
721191 | Bed-and-Breakfast Inns | 11.0 |
721199 | All Other Traveler Accommodation | 14.0 |
721211 | RV (Recreational Vehicle) Parks and Campgrounds | 13.5 |
721214 | Recreational and Vacation Camps (except Campgrounds) | 13.0 |
721310 | Rooming and Boarding Houses, Dormitories, and Workers' Camps | 19.0 |
Subsector 722—Food Services and Drinking Places
* * * * * * *
722320 | Caterers | 11.0 |
722330 | Mobile Food Services | 10.5 |
722410 | Drinking Places (Alcoholic Beverages) | 11.0 |
722511 | Full-Service Restaurants | 13.5 |
722513 | Limited-Service Restaurants | 16.0 |
* * * * * * *
Sector 81—Other Services (Except Public Administration)
Subsector 811—Repair and Maintenance
811111 | General Automotive Repair | 10.5 |
811114 | Specialized Automotive Repair | 10.5 |
811121 | Automotive Body, Paint, and Interior Repair and Maintenance | 13.5 |
811122 | Automotive Glass Replacement Shops | 21.5 |
811191 | Automotive Oil Change and Lubrication Shops | 14.5 |
811192 | Car Washes | 13.0 |
811198 | All Other Automotive Repair and Maintenance | 13.5 |
* * * * * * *
811310 | Commercial and Industrial Machinery and Equipment (except Automotive and Electronic) Repair and Maintenance | 18.0 |
811411 | Home and Garden Equipment Repair and Maintenance | 11.0 |
811412 | Appliance Repair and Maintenance | 25.0 |
811420 | Reupholstery and Furniture Repair | 10.5 |
811430 | Footwear and Leather Goods Repair | 12.0 |
811490 | Other Personal and Household Goods Repair and Maintenance | 12.0 |
Subsector 812—Personal and Laundry Services
812111 | Barber Shops | 12.5 |
812112 | Beauty Salons | 12.0 |
812113 | Nail Salons | 10.0 |
* * * * * * *
812199 | Other Personal Care Services | 10.5 |
812210 | Funeral Homes and Funeral Services | 15.5 |
* * * * * * *
812310 | Coin-Operated Laundries and Drycleaners | 16.5 |
812320 | Drycleaning and Laundry Services (except Coin-Operated) | 10.0 |
* * * * * * *
812910 | Pet Care (except Veterinary) Services | 10.5 |
812921 | Photofinishing Laboratories (except One-Hour) | 33.0 |
* * * * * * *
812990 | All Other Personal Services | 22.0 |
Subsector 813—Religious, Grantmaking, Civic, Professional and Similar Organizations
813110 | Religious Organizations | 16.0 |
* * * * * * *
813311 | Human Rights Organizations | 34.5 |
813312 | Environment, Conservation and Wildlife Organizations | 24.0 |
813319 | Other Social Advocacy Organizations | 22.0 |
813410 | Civic and Social Organizations | 13.0 |
813910 | Business Associations | 19.0 |
813920 | Professional Organizations | 27.0 |
813930 | Labor Unions and Similar Labor Organizations | 20.5 |
813940 | Political Organizations | 16.0 |
813990 | Other Similar Organizations (except Business, Professional, Labor, and Political Organizations) | 18.5 |
* * * * * * *
Footnotes:
* * * * * * *
¹ NAICS code 115310—Support Activities for Forestry—Forest Fire Suppression and Fuels Management Services are two components of Support Activities for Forestry. Forest Fire Suppression includes establishments which provide services to fight forest fires. These firms usually have fire-fighting crews and equipment. Fuels Management Services firms provide services to clear land of hazardous materials that would fuel forest fires. The treatments used by these firms may include prescribed fire, mechanical removal, establishing fuel breaks, thinning, pruning, and piling.
² NAICS code 237990—Dredging: To be considered small for purposes of Government procurement, a firm must perform at least 40 percent of the volume dredged with its own equipment or equipment owned by another small dredging concern.
* * * * * * *
⁸ NAICS codes 522110, 522130, 522180, and 522210—A financial institution's assets are determined by averaging the assets reported on its four quarterly financial statements for the preceding year. “Assets” for the purposes of this size standard means the assets defined according to the Federal Financial Institutions Examination Council 041 call report form for NAICS codes 522110, 522180, and 522210 and the National Credit Union Administration 5300 call report form for NAICS code 522130.
⁹ NAICS codes 531110, 531120, 531130, and 531190—Leasing of Building Space to the Federal Government by Owners: For Government procurement, a size standard of $47 million in gross receipts applies to the owners of building space leased to the Federal Government. The standard does not apply to an agent.
¹⁰ NAICS codes 488510, 531210, 541810, 561510, 561520, and 561920—As measured by total revenues, but excluding funds received in trust for an unaffiliated third party, such as bookings or sales subject to commissions. The commissions received are included as revenues.
* * * * * * *
¹² NAICS code 561210—Facilities Support Services:
(a) If one or more activities of Facilities Support Services as defined in paragraph (b) (below in this footnote) can be identified with a specific industry and that industry accounts for 50 percent or more of the value of an entire procurement, then the proper classification of the procurement is that of the specific industry, not Facilities Support Services.
(b) “Facilities Support Services” requires the performance of three or more separate activities in the areas of services or specialty trade contractors industries. If services are performed, these service activities must each be in a separate NAICS industry. If the procurement requires the use of specialty trade contractors (plumbing, painting, plastering, carpentry, etc.), all such specialty trade contractors activities are considered a single activity and classified as “Building and Property Specialty Trade Services.” Since “Building and Property Specialty Trade Services” is only one activity, two additional activities of separate NAICS industries are required for a procurement to be classified as “Facilities Support Services.”
¹³ NAICS code 238990—Building and Property Specialty Trade Services: If a procurement requires the use of multiple specialty trade contractors (i.e., plumbing, painting, plastering, carpentry, etc.), and no specialty trade accounts for 50 percent or more of the value of the procurement, all such specialty trade contractors activities are considered a single activity and classified as Building and Property Specialty Trade Services.
* * * * * * *
¹⁵ NAICS code 513210—For purposes of Government procurement, the purchase of software subject to potential waiver of the nonmanufacturer rule pursuant to § 121.1203(d) should be classified under this NAICS code.
¹⁶ NAICS code 611519—Job Corps Centers. For classifying a Federal procurement, the purpose of the solicitation must be for the management and operation of a U.S. Department of Labor Job Corps Center. The activities involved include admissions activities, life skills training, educational activities, comprehensive career preparation activities, career development activities, career transition activities, as well as the management and support functions and services needed to operate and maintain the facility. For SBA assistance as a small business concern, other than for Federal Government procurements, a concern must be primarily engaged in providing the services to operate and maintain Federal Job Corps Centers.
* * * * * * *
¹⁹ NAICS code 541330—
(a) “Engineering Services” means applying physical laws and principles of engineering in the design, development, and utilization of machines, materials, instruments, structures, processes, and systems. These may involve any of the following activities: provision of advice, preparation of feasibility studies, preparation of preliminary and final plans and designs, provision of technical services during the construction or installation phase, inspection and evaluation of engineering projects, and related services.
(b) Exception 1—Military Equipment, Aerospace Equipment, and Military Weapons: This exception applies when agencies procure highly specialized engineering services that are specifically and directly related to military and aerospace platforms, systems, and technologies. This includes work on military equipment, such as tanks, armored vehicles, drones, missile systems, C4ISR systems, radar and sonar systems, and other tactical or ground-based technologies. It also includes aerospace systems, such as satellites, launch vehicles, spacecraft, navigation and propulsion systems, and defense-related aeronautical engineering. Additionally, the exception covers military weapons and weapon systems, including guns, torpedoes, ballistic missile defense, nuclear weapons systems, and emerging technologies like directed energy weapons (e.g., lasers). Associated specialized services, such as systems integration, sustainment engineering, testing and evaluation, tech refreshes, and modeling/simulation designed for military or aerospace purposes also qualify. This exception is not limited to military contracts; it can also apply to civilian agencies or commercial efforts that involve defense-related equipment or applications. However, it excludes standard civil and commercial engineering services (e.g., roads, bridges, utilities, and facilities), and non-defense aerospace projects.
(c) Exception 2—Contracts and Subcontracts for Engineering Services Awarded Under the National Energy Policy Act of 1992: This exception applies to contracts and subcontracts for engineering services, as defined in (a) above, awarded under the National Energy Policy Act of 1992 (NEPA). Section 3021 of NEPA provides that for purposes of contracts and sub-contracts requiring engineering services, the applicable size standard shall be that established for military and aerospace equipment and military weapons (106 Stat. 2776; Pub. L. 102-486; October 24, 1992).
(d) Exception 3—Marine Engineering and Naval Architecture under NAICS 541330: This exception applies when work involves highly specialized engineering services that are specifically and directly related to marine vessels and naval systems. Covered areas include ship and vessel design, such as Navy ships, submarines, Coast Guard cutters, commercial or military cargo vessels, and special-purpose vessels like icebreakers and autonomous ships. It also includes marine engineering, such as propulsion and steering systems, HVAC, electrical, fuel, ballast, and onboard fluid handling systems, as well as the integration of weapons systems and onboard system modeling. Naval architectural services, such as hull form development, hydrodynamic performance, buoyancy and stability analysis, weight distribution, seakeeping, and propulsion system design are also included. Also covered are support services, such as ship modification, modernization, damage control, survivability engineering, sea trials instrumentation, and assistance with regulatory certifications. Excluded from this exception are general civil marine structures (e.g., docks, piers, canals), environmental engineering not related to ships, and architectural services for shipyards or administrative buildings.

Kelly Loeffler,
Administrator.

[FR Doc. 2025-16142 Filed 8-21-25; 8:45 am]

BILLING CODE 8026-09-P